DEPARTMENT OF AGRICULTURE

Federal Crop Insurance Corporation

7 CFR Parts 400, 407, and 457

[Docket ID FCIC-24-0003]

RIN 0563-AC85

Expanding Options for Specialty and Organic Growers (EOSOG)

AGENCY: Federal Crop Insurance Corporation, U.S. Department of Agriculture (USDA).

ACTION: Final rule with request for comments.

SUMMARY: The Federal Crop Insurance Corporation (FCIC) is amending its regulations to expand the availability of enterprise and optional units. FCIC is also clarifying double cropping requirements when another plan of insurance does not require records of acreage and production. FCIC is removing burdensome written agreement requirements and setting new yield guarantee limits for new breaking acreage. In this rule, FCIC is providing flexibility and clarifying rules regarding assignment of indemnity and streamlining and shortening good farming practice determinations. FCIC is also clarifying the timing and method of yield reductions for several perennial crops, and allowing sunburn damaged walnuts to be eligible for indemnity payments through quality adjustment. The changes to the crop insurance policies resulting from the amendments in this rule are applicable for the 2025 and succeeding crop years for crops with a contract change date on or after June 30, 2024. For all other crops, the changes to the policies made in this rule are applicable for the 2026 and succeeding crop years.

DATES: Effective date: This final rule is effective June 30, 2024.

Comment date: We will consider comments that we receive by the close of business August 26, 2024. FCIC may consider the comments received and may conduct additional rulemaking based on the comments.

ADDRESSES: We invite you to submit comments on this rule. You may submit comments by going through the Federal eRulemaking Portal as follows:

• Federal eRulemaking Portal: Go to https://www.regulations.gov and search for Docket ID FCIC-24-0003. Follow the instructions for submitting comments.

All comments will be posted without change and will be publicly available on www.regulations.gov.

FOR FURTHER INFORMATION CONTACT: Chandra Place; telephone (816) 926-3875; or email chandra.place@usda.gov. Individuals who require alternative means for communication should contact the USDA Target Center at (202) 720-2600 (voice) or (844) 433-2774 (toll-free nationwide).

SUPPLEMENTARY INFORMATION:

Background

FCIC serves America's agricultural producers through effective, market-based risk management tools to strengthen the economic stability of agricultural producers and rural communities. FCIC is committed to increasing the availability and effectiveness of Federal crop insurance as a risk management tool. Approved Insurance Providers (AIPs) sell and service Federal crop insurance policies in every state through a public-private partnership. FCIC reinsures the AIPs who share the risks associated with catastrophic losses due to major weather events. FCIC's vision is to secure the future of agriculture by providing world class risk management tools to rural America.

Federal crop insurance policies typically consist of the Basic Provisions, the Crop Provisions, the Special Provisions, the Commodity Exchange Price Provisions, if applicable, other applicable endorsements or options, the actuarial documents for the insured agricultural commodity, the Catastrophic Risk Protection Endorsement, if applicable, and the applicable regulations published in 7 CFR chapter IV. Throughout this rule, the terms “Crop Provisions,” “Special Provisions,” and “policy” are used as defined in the Common Crop Insurance Policy (CCIP), Basic Provisions in 7 CFR 457.8. Additional information and definitions related to Federal crop insurance policies are in 7 CFR 457.8.

FCIC is amending the following regulations:

• Subpart J (7 CFR 400.98);

• Area Risk Protection Insurance Basic Provisions (7 CFR 407.9);

• Common Crop Insurance Policy Basic Provisions (7 CFR 457.8);

• Small grains crop insurance provisions (7 CFR 457.101);

• Sunflower seed crop insurance provisions (7 CFR 457.108);

• Fig crop insurance provisions (7 CFR 457.110);

• Coarse grains crop insurance provisions (7 CFR 457.113);

• Arizona-California citrus crop insurance provisions (7 CFR 457.121);

• Walnut crop insurance provisions (7 CFR 457.122);

• Almond crop insurance provisions (7 CFR 457.123);

• Macadamia nut crop insurance provisions (7 CFR 457.131);

• Prune crop insurance provisions (7 CFR 457.133);

• Dry pea crop insurance provisions (7 CFR 457.140);

• Northern potato crop insurance provisions (7 CFR 457.142);

• Central and Southern potato crop insurance provisions (7 CFR 457.147);

• Dry bean crop insurance provisions (7 CFR 457.150);

• Processing bean crop insurance provisions (7 CFR 457.155);

• Canola and rapeseed crop insurance provisions (7 CFR 457.161);

• Blueberry crop insurance provisions (7 CFR 457.166);

• Pecan revenue crop insurance provisions (7 CFR 457.167); and

• California avocado crop insurance provisions (7 CFR 457.175).

The changes to the crop insurance policies resulting from the amendments in this rule are applicable for the 2025 and succeeding crop years for crops with a contract change date on or after June 30, 2024. For all other crops, the changes to the crop insurance policies resulting from the amendments in this rule are applicable for the 2026 and succeeding crop years.

Enterprise and Optional Units

FCIC is improving crop insurance for specialty crop producers by removing barriers to the adoption of enterprise units (EUs) and organic producers by removing existing restrictions on optional units (OU) availability while also authorizing EUs for organic farming practices in section 34(a) through (c) of the CCIP Basic Provisions.

An EU allows a producer to insure all acres of the insured crop in the county together, as opposed to other unit structures that separate the acreage for insurance. EUs are attractive to producers due to lower premium rates offered to recognize the lower risk associated with the geographic diversification. In general, the larger the EU, the lesser the risk, and the greater the EU discount. Prior to this rule, to qualify for an EU, there must be acreage in two or more sections, section equivalents, or Farm Service Agency Farm Numbers (with some exceptions in limited circumstances) which generally follows the primary basis of OUs for the majority of crops.

Prior to this rule, many specialty and perennial crop policies established OUs by non-contiguous parcels of land which do not qualify to be aggregated into an EU. This limits the effectiveness of EUs for these policies and creates an additional administrative burden by not following the established OU definition for these crops. FCIC will allow crops that authorize OUs by non-contiguous parcels of land to also qualify for EUs, in section 34(a)(2)(i)(G) of the CCIP Basic Provisions. This will ensure equity in crop insurance availability for all producers because specialty and perennial crop producers will now have access to EUs consistent with row crop producers.

Prior to this rule, unlike major row crops, OUs by organic farming practice were not available for most specialty and perennial crops due to language in the Crop Provisions (CP) that superseded the standard OU definition in the CCIP Basic Provisions. FCIC is removing existing OUs by organic limitations from the applicable Crop Provisions while also authorizing EUs by organic farming practice for all crops insured under section 34(a)(2)(i)(G)(vi) of the CCIP Basic Provisions where EUs are available, and the organic farming practice is insurable. These changes are responsive to organic growers and the Climate Smart Initiative. FCIC is also revising section 1 of the CCIP Basic Provisions in the definition of “enterprise unit” to authorize EU for acreage grown under an organic farming practice.

In addition to the CCIP Basic Provisions described above, FCIC is making clarifications and edits for consistency with the new EU and OU choices in the following Crop Provisions:

• Small grains crop insurance provisions (7 CFR 457.101);

• Sunflower seed crop insurance provisions (7 CFR 457.108);

• Fig crop insurance provisions (7 CFR 457.110);

• Coarse grains crop insurance provisions (7 CFR 457.113);

• Arizona-California citrus crop insurance provisions (7 CFR 457.121);

• Walnut crop insurance provisions (7 CFR 457.122);

• Almond crop insurance provisions (7 CFR 457.123);

• Macadamia nut crop insurance provisions (7 CFR 457.131);

• Prune crop insurance provisions (7 CFR 457.133);

• Dry pea crop insurance provisions (7 CFR 457.140);

• Dry bean crop insurance provisions (7 CFR 457.150);

• Processing bean crop insurance provisions (7 CFR 457.155);

• Canola and rapeseed crop insurance provisions (7 CFR 457.161); and

• California avocado crop insurance provisions (7 CFR 457.175).

Double Cropping and Annual Forage

Double cropping is a farming practice for producing two or more crops for harvest on the same acreage in the same crop year. In order for a producer to receive two full indemnity payments or prevented planting payments, several double cropping requirements must be met. The CCIP Basic Provisions and the Annual Forage Crop Provisions (under the Rainfall Index Plan Common Policy, Basic Provisions) have some differences in their double cropping requirements, which has led to questions on which requirements must be met if the producer is double cropping two crops insured with these different double cropping requirements.

FCIC is clarifying section 15(h) of the CCIP Basic Provisions, with a new paragraph (7) to clearly state what double cropping requirements apply for a producer to receive a full indemnity for the crop insured under the CCIP Basic Provisions when the producer is double cropping a crop insured under the CCIP Basic Provisions and another crop insured under another policy authorized under the Federal Crop Insurance Act (for example, the Annual Forage Crop Provisions). Specifically, the producer must meet existing requirements in sections 15(h)(1) through (3) of the CCIP Basic Provisions, but the double cropping history requirements contained in sections 15(h)(5) and (6) of the Basic Provisions do not apply. A producer is unlikely to have production history for the crop that is foraged or grazed under the Annual Forage Crop Provisions, so those requirements do not apply. The revisions reinforce the existing indemnity reductions that will apply if the producer does not meet the double cropping requirements.

FCIC is adding a new requirement in section 15(h)(7) of the CCIP Basic Provisions for a producer to receive a full prevented planting payment for a crop insured under the CCIP Basic Provisions when the producer is double cropping and the other crop is insured under another policy authorized under the Federal Crop Insurance Act (for example, the Annual Forage Crop Provisions). To meet the new requirement for a full prevented planting payment, the producer must prove insurance history for the annual forage crop. In addition, FCIC is reinforcing the existing rules that the crop insured under the CCIP Basic Provisions must meet the double cropping requirements in sections 15(h)(1) through (4) and 17(f)(4)(ii) and (iii) of the CCIP Basic Provisions. Adding this new program requirement will ensure that full prevented planting payments are only made to producers with a history of double cropping in their farming operation, without requiring production records to support the annual forage history.

FCIC is clarifying double cropping requirements when a single crop is insured for dual use under both the CCIP Basic Provisions and another policy authorized under the Federal Crop Insurance Act (for example, the Annual Forage Crop Provisions) for different end uses, in a new paragraph 15(h)(8) of the CCIP Basic Provisions. The existing policy allows the same wheat crop to be insured for grain under the CCIP Basic Provisions, Small Grains Crop Provisions in addition to being insured as annual forage under the Annual Forage Crop Provisions. Producers and AIPs have questioned which policy's double cropping requirements must be followed if a subsequent crop is planted following the dual use wheat. Following the dual use insurance of the wheat crop, if a subsequent crop is insured under the CCIP Basic Provisions, all double cropping history requirements under the CCIP Basic Provisions apply for both crops insured under the CCIP Basic Provisions. This clarification is now explicit in the new paragraph 15(h)(8).

FCIC is adding similar changes to section 13(c)(6) of the ARPI Basic Provisions, where applicable. The ARPI Basic Provisions do not have prevented planting coverage or a Special Provisions statement that allows for dual use, so those changes are not included in this rule.

New Breaking and Native Sod

The Risk Management Agency (RMA) reviewed new breaking acreage insurance experience to determine the suitability of existing approved yield limitations. RMA compared historical yields for new breaking acreage, such as acreage emerging from native sod and acreage emerging from USDA programs (such as the Conservation Reserve Program (CRP)), to county transitional yields (T-Yields). RMA found that the approved yield limits of 65 or 80 percent of the county T-Yield result in under-insurance for different types of new breaking acreage.

FCIC is revising section 9 of the CCIP Basic Provisions by setting a new approved yield limit for new breaking acreage at 85 percent of the applicable T-Yield, with 2 exceptions:

(1) acreage emerging from native sod will remain at 65 percent, as legislated; and

(2) acreage emerging from USDA programs (such as CRP) will remain at 100 percent.

Prior to this rule, the approved yield limit was in FCIC approved procedure and in the Special Provisions. FCIC is moving the yield limit to section 9 of the CCIP Basic Provisions for clarity. As a result, FCIC expects approved yields that are more in line with how yields have historically performed. FCIC plans to review new breaking yield data every 5 years or at such time that there is meaningful data to analyze.

FCIC is removing written agreement (WA) requirements for new breaking and native sod acres which is expected to reduce the number of WAs by 200 annually.

FCIC is modifying the new breaking insurability requirement from planted and harvested (or insured) in “one of the three” previous crop years to “one of the four” previous crop years to provide consistency between new breaking and prevented planting acreage. Allowing an extra year before the idle acreage is considered new breaking benefits producers who rotate with idle ground as it reduces soil exposure to wind and water, decreases total soil loss, and allows more acreage to qualify for insurance without incurring a yield reduction. Providing consistency between acreage not planted for rotation purposes and acreage prevented from being planted will streamline the requirements for land returning to production and be easier for producers to understand.

Prior to this rule, some perennial and specialty crops did not fit within the definition of new breaking acreage “planted and harvested (or insured) in one of the three previous crop years” due to a longer crop cycle. FCIC is allowing intensively managed perennial crops (for example, forage, tree, vine, bush, or mint) to move to row crop production and be eligible for insurance with a full guarantee. FCIC is also revising section 1 of the CCIP Basic Provisions adding a new definition of “New breaking acreage” to define acreage which has not been planted and harvested, or insured within the 4 previous crop years, in accordance with section 9(a).

FCIC is revising sections 1 and 5 of the ARPI Basic Provisions to add similar changes, where applicable.

Assignment of Indemnity

Section 29(d) of the CCIP Basic Provisions allow a producer to assign their right to an indemnity for the crop year to creditors or other persons to whom they have a financial debt or other pecuniary obligation. Prior to this rule, only one payment could be issued jointly in the names of all assignees and the producer. This has created problems when the parties request payment through an automated clearing house (ACH) to a single account when an assignment of indemnity is in place because this method does not allow for multiple payees. In this rule, FCIC allows for an indemnity to be issued to a single party if all assignees and the producer agree in writing. This addition provides flexibility for the producer, assignees, and the AIP when it is preferable for a payment to be issued by ACH or other electronic means when these methods do not allow for multiple payees.

FCIC is incorporating two Final Agency Determinations (FADs) related to assignment of indemnity into section 29(d)(2) of the CCIP Basic Provisions. Prior to this rule, an assignee was allowed to submit all loss notices and forms and submit the claim for indemnity not later than 30 days after the period for filing a claim has expired when the producer failed to take such action and the indemnity was assigned. In a situation where the assignee submits the forms and claims for indemnity because the producer has failed to do so, FAD-243 and FAD-252 clarified, and the FCIC addition explains the assignee steps into the shoes of the producer and assumes the rights and obligations of the producer. Those rights include initiating arbitration as provided by the policy should a dispute or disagreement ensue over the handling or determination of the claim. Since FADs are already legally binding and generally applicable to all program participants, incorporating the FADs is a non-substantive change.

FCIC is adding similar changes to section 16(d) of the ARPI Basic Provisions to allow for an indemnity to be issued to a single payee if all assignees and the producer agree in writing. Unlike the CCIP Basic Provisions, there are no loss notices under the ARPI Basic Provisions, so the assignee does not assume any additional rights or responsibilities with an assignment of indemnity.

Good Farming Practices

The Federal Crop Insurance Act, as amended (7 U.S.C. 1508(a)(3)(A)(iii) and (B)) authorizes FCIC to offer crop insurance but also excludes coverage for losses due to “the failure of the producer to follow good farming practices, including scientifically sound sustainable and organic farming practices.” The Federal Crop Insurance Act also provides a producer the right to review a good farming practice (GFP) determination by an “Informal administrative process to be established by FCIC.”

The CCIP Basic Provisions provide that AIPs make the initial decision on whether a producer followed a GFP. If the producer disagrees with the AIP's GFP decision, they can request that FCIC make the GFP determination. If the producer disagrees with the FCIC determination, the producer can request FCIC's reconsideration in accordance with 7 CFR part 400, subpart J, or file suit against FCIC in district court. If the producer choses FCIC's reconsideration process and disagrees with FCIC's reconsideration decision, the producer can then file suit in district court.

Prior to this rule, the materials FCIC would review in its reconsideration were vague, which resulted in a more burdensome and overly lengthy reconsideration process than intended. If a producer chose both an FCIC determination and FCIC reconsideration, the process could take 2 years, whereas if the producer chose to file in district court after reconsideration, the process could last about 3 years. The longer reconsideration process was costly to both the producer and FCIC.

FCIC is clarifying in subpart J that the GFP reconsideration process is now limited to review of the administrative record compiled during the initial FCIC determination. The administrative record contains all the documents FCIC relied upon to make the GFP determination. Producers are required under section 21 of the CCIP Basic Provisions to retain and provide all records related to the insured crop upon request of the AIP and FCIC. Therefore, all the producer's pertinent information should have been included during the previous GFP decisions, first by the AIP and then by FCIC.

This change will improve equity, efficiency, and effectiveness for producers, while also ensuring program integrity. Streamlining the reconsideration processes will reduce costs for producers who retain legal counsel, especially those who exercise all their appeal rights under the process. In cases where the producer prevails, shortening the process also reduces FCIC costs related to indemnities due with interest.

In this rule, FCIC is also updated the mailing address contained in 7 CFR part 400, subpart J, for requesting reconsideration.

Timing and Method of Reduction to Insured Acreage, Amount of Insurance, or Yields

FCIC is clarifying the timing and method of reductions to insured acreage, amount of insurance, or yields for several perennial crops, if circumstances occur that may reduce gross sales or yield potential, based on when the circumstance occurred. Prior to this rule, provisions stated that the AIP will reduce the insured acreage, amount of insurance, or yield used to establish the production guarantee, but did not state when or how the reductions would apply. FCIC is providing three scenarios that contain specific instructions for reductions based on the timing of when the circumstance occurred that may reduce gross sales or yield potential and whether the producer notified the AIP by the production reporting date. This is necessary for consistency with other perennial crop policies, including revisions to language that removes potential ambiguity regarding the consequences when circumstances occur that will reduce gross sales or yield potential. The applicable changes occur in the following Crop Provisions:

• Fig crop insurance provisions (7 CFR 457.110);

• Arizona-California citrus crop insurance provisions (7 CFR 457.121);

• Walnut crop insurance provisions (7 CFR 457.122);

• Almond crop insurance provisions (7 CFR 457.123);

• Macadamia nut crop insurance provisions (7 CFR 457.131);

• Prune crop insurance provisions (7 CFR 457.133);

• Blueberry crop insurance provisions (7 CFR 457.166);

• Pecan revenue crop insurance provisions (7 CFR 457.167); and

• California avocado crop insurance provisions (7 CFR 457.175).

Minimum Acreage, Stand, or Production Requirement for Figs

FCIC is clarifying section 7(f)(l) of the Fig crop insurance provisions (7 CFR 457.110) that the minimum acreage, stand, or production requirement is not waived by a written agreement or any other agreement in writing, but rather, if “otherwise allowed by the Special Provisions.” This change will clarify the producer's requirement and provide consistency in identifying the location of the requirements within their policy.

FCIC is also making the following changes in the Fig crop insurance provisions (7 CFR 457.110):

• Clarifying the definition for “manufacturing grade production” by specifically referencing the United States Standards for Grades of Dried Figs, Grade B; and

• Correcting the paragraph reference from “paragraph (a)(1) of this section” to “section 9(a)(1)” in section 9(b) and making plain language clarifications in sections 4 and 10. For example, replacing “see the provisions under section 4 (Contract Changes) of the Basic Provisions” with “in accordance with section 4 of the Basic Provisions” and replacing the phrase “not insured against” with “excluded.”

Walnut Quality Adjustment

FCIC is allowing sunburn damaged walnuts to be eligible for indemnity payments through quality adjustment in section 11(d) of the Walnut crop insurance provisions (7 CFR 457.122). Quality adjustment provides an indemnity payment when there is a reduction in the quality of a crop due to an insured cause of loss, but all or a portion of the crop could still be sold. In recent years, California walnut growers have experienced a reduction in the quality of the nuts due to sunburn. Sunburn reduces the quality of the nuts, but they still have use and may be sold at a reduced value. Prior to this rule, Walnut Crop Provisions limited the application of quality adjustment to mold. In this rule, FCIC is moving the quality adjustment factors to the Special Provisions for both mold and sunburn damage.

FCIC is also making the following changes in the Walnut crop insurance provisions (7 CFR 457.122):

• Correcting the paragraph reference from “paragraph (a)(1) of this section” to “section 8(a)(1)” in section 8(a); and

• Making plain language clarifications in section 6.

Almond Leaf Year

FCIC is clarifying the insurable age requirement for almond trees is the 5th leaf year after being set out in section 6(e) of the Almond crop insurance provisions (7 CFR 457.123). Prior to this rule, the Crop Provisions specified that acreage that had reached at least the 6th growing season after being set out was insurable, but the Special Provisions allowed acreage that had reached the 5th growing season after being set out to be insurable. The intended effect of this action is to incorporate the existing Special Provisions statement allowing the 5th leaf year to be insurable into the policy to improve clarity and transparency for the producer. In addition, FCIC is correcting the phrase “growing season” by replacing it with “leaf year” to match how the information is displayed in the actuarial documents. This change will provide the producer with a phrase that is consistent in both the Crop Provisions and the actuarial documents.

Canola and Rapeseed Cancellation and Termination Dates

FCIC is revising section 5 of the Canola and rapeseed crop insurance provisions (7 CFR 457.161) by adding a cancellation and termination date of March 15 for South Dakota and August 31 to Michigan. This change is being made to allow expansion of canola into these states where there is actuarially sufficient data to establish premium rates.

Clarifications and Corrections

FCIC is clarifying the definitions of Production reporting date and Variable T-Yield in section 1 of the CCIP Basic Provisions.

FCIC is clarifying that cover crops reported to another USDA agency are not insurable in section 8(b)(7) of the CCIP Basic Provisions and section 4(b)(8) of the ARPI Basic Provisions. If a cover crop is insured, no indemnity will be paid for such acreage, but the producer will still be liable for 60 percent of the premium they would otherwise be required to pay on those acres.

FCIC is clarifying in section 22(a) of the CCIP Basic Provisions and section 18(b) of the ARPI Basic Provisions that if duplicate policies are found and one is an additional coverage policy and the other is a Catastrophic Risk Protection policy, whichever policy is kept in force the other policy will be void.

FCIC is capitalizing all words, except “and,” in the table heading for cancellation and termination dates. This change will be made in the following Crop Provisions:

• Small grains crop insurance provisions (7 CFR 457.101);

• Sunflower seed crop insurance provisions (7 CFR 457.108);

• Coarse grains crop insurance provisions (7 CFR 457.113);

• Dry pea crop insurance provisions (7 CFR 457.140);

• Central and Southern potato crop insurance provisions (7 CFR 457.147);

• Dry bean crop insurance provisions (7 CFR 457.150); and

• Canola and rapeseed crop insurance provisions (7 CFR 457.161).

FCIC is correcting the paragraph reference from “paragraph (d) of this section” to “section 11(d)” in section 11(c)(1)(iii) in the Small grains crop insurance provisions (7 CFR 457.101).

FCIC is correcting the states and counties associated with the contract change dates, the cancellation and termination dates, and end of insurance period dates to match current coverage areas and dates in the actuarial documents. This change will be made in the following Crop Provisions:

• Coarse grains crop insurance provisions (7 CFR 457.113);

• Walnut crop insurance provisions (7 CFR 457.122); and

• Prune crop insurance provisions (7 CFR 457.133).

FCIC is removing the definition of “crop year” that duplicates the same definition in the Basic Provisions and updating years used in examples in the Macadamia nut crop insurance provisions (7 CFR 457.131) to be current.

FCIC is correcting the type references in the Prune crop insurance provisions (7 CFR 457.133), in the settlement of claim examples in section 11 to match the way types are displayed in the actuarial documents. This change will provide the producer with type references that are consistent in both the Crop Provisions and the actuarial documents.

FCIC is clarifying the definitions for “Prunes” and “Standard prunes” in the Prune crop insurance provisions (7 CFR 457.133) to reference the transferring management of the Marketing Order from Agricultural Marketing Service to the Prune Administrative Committee (89 FR 13587).

FCIC is clarifying insurable acreage by adding the phrase “fall-planted” in the Dry pea crop insurance provisions (7 CFR 457.140) to avoid any potential confusion with spring-planted acreage.

FCIC is clarifying which Basic Provisions apply by adding an introductory sentence preceding the Crop Provisions and updating the effective year within the introductory sentence to show the year that the changes in the Crop Provision will apply. This change will be made in the following Crop Provisions:

• Small grains crop insurance provisions (7 CFR 457.101);

• Sunflower seed crop insurance provisions (7 CFR 457.108);

• Fig crop insurance provisions (7 CFR 457.110);

• Coarse grains crop insurance provisions (7 CFR 457.113);

• Arizona-California citrus crop insurance provisions (7 CFR 457.121);

• Walnut Crop Insurance Provisions (7 CFR 457.122);

• Almond Crop Insurance Provisions (7 CFR 457.123);

• Macadamia Nut Crop Insurance Provisions (7 CFR 457.131);

• Prune Crop Insurance Provisions (7 CFR 457.133);

• Dry pea crop insurance provisions (7 CFR 457.140);

• Northern potato crop insurance provisions (7 CFR 457.142);

• Central and Southern potato crop insurance provisions (7 CFR 457.147);

• Dry bean crop insurance provisions (7 CFR 457.150);

• Processing bean crop insurance provisions (7 CFR 457.155);

• Canola and rapeseed crop insurance provisions (7 CFR 457.161);

• Blueberry crop insurance provisions (7 CFR 457.166);

• Pecan revenue crop insurance provisions (7 CFR 457.167); and

• California avocado crop insurance provisions (7 CFR 457.175).

FCIC is removing the introductory sentence explaining the order of priority in individual Crop Provisions because it is duplicative of the CCIP Basic Provisions which already includes the priority order of policy provisions. This change will be made in the following Crop Provisions:

• Fig crop insurance provisions (7 CFR 457.110);

• Almond crop insurance provisions (7 CFR 457.123);

• Dry bean crop insurance provisions (7 CFR 457.150); and

• Processing bean crop insurance provisions (7 CFR 457.155).

FCIC is reducing redundancy, eliminating potential conflicts, and clarifying definitions that appear in both the Basic Provisions and individual Crop Provisions. FCIC is adding the phrases “in addition to” or “in lieu of” where applicable. This change is being made in the following Crop Provisions:

• Fig crop insurance provisions (7 CFR 457.110);

• Arizona-California citrus crop insurance provisions (7 CFR 457.121);

• Almond crop insurance provisions (7 CFR 457.123);

• Macadamia nut crop insurance provisions (7 CFR 457.131);

• Processing bean crop insurance provisions (7 CFR 457.155);

• Blueberry crop insurance provisions (7 CFR 457.166);

• Pecan revenue crop insurance provisions (7 CFR 457.167); and

• California avocado crop insurance provisions (7 CFR 457.175).

FCIC is allowing the Special Provisions to change the end of the insurance period because there have been occasions when the end of the insurance period stated in the Crop Provisions may no longer be reflective of the period of risk due to changing technologies, etc. This change is being made in the following Crop Provisions:

• Sunflower seed crop insurance provisions (7 CFR 457.108);

• Processing bean crop insurance provisions (7 CFR 457.155); and

• Canola and rapeseed crop insurance provisions (7 CFR 457.161).

FCIC is replacing the phrase “Special Provisions” with “actuarial documents,” and “actuarial documents” with “Special Provisions” to correct the location of certain information (such as harvest costs, price elections, Fresh Fruit Factors). This change is being made in the following Crop Provisions:

• Coarse grains crop insurance provisions (7 CFR 457.113);

• Almond crop insurance provisions (7 CFR 457.123);

• Northern potato crop insurance provisions (7 CFR 457.142);

• Central and Southern potato crop insurance provisions (7 CFR 457.147);

• Dry bean crop insurance provisions (7 CFR 457.150); and

• Blueberry crop insurance provisions (7 CFR 457.166).

FCIC is updating prices and yields in the settlement of claim examples to be more reflective of current crop prices and potential indemnities. This change is being made in the following Crop Provisions:

• Coarse grains crop insurance provisions (7 CFR 457.113);

• Sunflower seed crop insurance provisions (7 CFR 457.108);

• Almond crop insurance provisions (7 CFR 457.123);

• Blueberry crop insurance provisions (7 CFR 457.166);

• Macadamia nut crop insurance provisions (7 CFR 457.131);

• Walnut crop insurance provisions (7 CFR 457.122);

• Dry pea crop insurance provisions (7 CFR 457.140);

• Processing bean crop insurance provisions (7 CFR 457.155); and

• Canola and rapeseed crop insurance provisions (7 CFR 457.161).

FCIC is replacing the phrase “growing season” with “leaf year” to match the phrase where the information is displayed in the actuarial documents. This change will provide the producer with a phrase that is consistent in both the Crop Provisions and the actuarial documents. This change is being made in the following Crop Provisions:

• Almond crop insurance provisions (7 CFR 457.123); and

• Fig crop insurance provisions (7 CFR 457.110).

FCIC is revising the sub-heading for section 3 to “Insurance Guarantees, Coverage Levels, and Prices” by removing the phrase “for Determining Indemnities” at the end. Removing this phrase will align the sub-heading to match the corresponding section in the CCIP Basic Provisions. It also helps clarify that price is not exclusively used to determine indemnities; price is also used to establish the guarantee and determine the premium due for the producer. This change will be made in the following Crop Provisions:

• Sunflower seed crop insurance provisions (7 CFR 457.108);

• Fig crop insurance provisions (7 CFR 457.110);

• Coarse grains crop insurance provisions (7 CFR 457.113);

• Almond crop insurance provisions (7 CFR 457.123);

• Dry pea crop insurance provisions (7 CFR 457.140);

• Northern potato crop insurance provisions (7 CFR 457.142);

• Central and Southern potato crop insurance provisions (7 CFR 457.147);

• Dry bean crop insurance provisions (7 CFR 457.150);

• Processing bean crop insurance provisions (7 CFR 457.155); and

• Canola and rapeseed crop insurance provisions (7 CFR 457.161).

FCIC is removing references to “FCIC,” “reinsured policies,” and other redundant or unnecessary language in title headings and correcting any variations of the “Department of Agriculture” to the “United States Department of Agriculture.” These changes will make Crop Provisions more consistent. These changes will be made in the following Crop Provisions:

• Sunflower seed crop insurance provisions (7 CFR 457.108);

• Walnut crop insurance provisions (7 CFR 457.122);

• Almond crop insurance provisions (7 CFR 457.123);

• Prune crop insurance provisions (7 CFR 457.133);

• Dry pea crop insurance provisions (7 CFR 457.140);

• Northern potato crop insurance provisions (7 CFR 457.142);

• Central and Southern potato crop insurance provisions (7 CFR 457.147);

• Dry bean crop insurance provisions (7 CFR 457.150);

• Processing bean crop insurance provisions (7 CFR 457.155);

• Canola and rapeseed crop insurance provisions (7 CFR 457.161);

• Blueberry crop insurance provisions (7 CFR 457.166); and

• Pecan revenue crop insurance provisions (7 CFR 457.167).

FCIC is removing repetitive parenthetical titles that reference the CCIP Basic Provisions for consistency. For example, this change deletes the parenthetical title (Insurance Guarantees, Coverage Levels, and Prices for Determining Indemnities) in the sentence “In addition to the requirements of section 3 (Insurance Guarantees, Coverage Levels, and Prices for Determining Indemnities) of the Basic Provisions.” In other Crop Provisions, the parenthetical title does not appear. This change will make Crop Provisions more consistent. This change will be made in the following Crop Provisions:

• Fig crop insurance provisions (7 CFR 457.110); and

• Almond crop insurance provisions (7 CFR 457.123).

FCIC is incorporating grammatical and editorial changes throughout the applicable Crop Provisions. For example, removing all instances of the phrase “the provisions of” where a policy reference follows and removing ending punctuation from section headings.

Effective Date, Notice and Comment, and Exemptions

The Administrative Procedure Act (APA, 5 U.S.C. 553) provides that the notice and comment and 30-day delay in the effective date provisions do not apply when the rule involves specified actions, including matters relating to contracts. This rule governs contracts for crop insurance policies and therefore falls within that exemption.

This rule is exempt from the regulatory analysis requirements of the Regulatory Flexibility Act (5 U.S.C. 601-612), as amended by the Small Business Regulatory Enforcement Fairness Act of 1996.

Subtitle E of the Small Business Regulatory Enforcement Fairness Act of 1996, (also known as the Congressional Review Act) requires a delay of the effective date of 60 days after publication to allow for Congressional review. The Office of Information and Regulatory Affairs has determined that this rule does not meet the criteria in 5. U.S.C. 804(2). Therefore, this final rule is effective on June 30, 2024.

Although not required by APA or any other law, FCIC has chosen to request comments on this rule.

Executive Orders 12866, 13563 and 14094

Executive Order 12866, “Regulatory Planning and Review,” was amended by and Executive Order 13563, “Improving Regulation and Regulatory Review,” and Executive Order 14094, “Modernizing Regulatory Review.” Executive Orders 12866 and 13563 direct agencies to assess all costs and benefits of available regulatory alternatives and, if regulation is necessary, to select regulatory approaches that maximize net benefits (including potential economic, environmental, public health and safety effects, distributive impacts, and equity). Executive Order 13563 emphasized the importance of quantifying both costs and benefits, of reducing costs, of harmonizing rules, and of promoting flexibility. The requirements in Executive Orders 12866 and 13563 for the analysis of costs and benefits apply to rules that are determined to be significant.

The Office of Management and Budget (OMB) has designated this rule as not significant under Executive Order 12866, “Regulatory Planning and Review,” and therefore, OMB has not reviewed this rule and analysis of the costs and benefits is not required under either Executive Order 12866 or 13563.

Clarity of the Regulation

Executive Order 12866, as supplemented by Executive Order 13563, requires each agency to write all rules in plain language. Executive Order 14094 requires Federal agencies to increase and improve public participation in the regulatory process. The Executive order's objective is to improve public trust in the regulatory process by reducing the risk or appearance of unequal or unfair influence in regulatory development. Under Executive Order 14904, agencies must, to the extent they can under law, seek out, assist with, and include your input in the regulatory process. We welcome comments from public (State, local, Tribal, and territorial) and private sector regulated entities; members of underserved communities; consumers; workers and labor organizations; businesses; and program beneficiaries, among others. In addition to your substantive comments on this rule, we invite your comments on how to make the rule easier to understand. For example:

• Are the requirements in the rule clearly stated? Are the scope and intent of the rule clear?

• Does the rule contain technical language or jargon that is not clear?

• Is the material logically organized?

• Would changing the grouping or order of sections or adding headings make the rule easier to understand?

• Could we improve clarity by adding tables, lists, or diagrams?

• Would more, but shorter, sections be better? Are there specific sections that are too long or confusing?

• What else could we do to make the rule easier to understand?

Environmental Review

The environmental impacts of this final rule have been considered in a manner consistent with the provisions of the National Environmental Policy Act (NEPA, 42 U.S.C. 4321-4347), the regulations of the Council on Environmental Quality (40 CFR parts 1500-1508), and because USDA will be making the payments to producers, the USDA regulation for compliance with NEPA (7 CFR part 1b). As specified in 7 CFR 1b.4(b)(4), FCIC is categorically excluded from the preparation of an Environmental Analysis or Environmental Impact Statement unless the FCIC Manager (agency head) determines that an action may have a significant environmental effect. The FCIC Manager has determined this rule will not have a significant environmental effect. Therefore, FCIC will not prepare an environmental assessment or environmental impact statement for this action and this rule serves as documentation of the programmatic environmental compliance decision.

Executive Order 12988

This rule has been reviewed under Executive Order 12988, “Civil Justice Reform.” This rule will not preempt State or local laws, regulations, or policies unless they represent an irreconcilable conflict with this rule. Before any judicial actions may be brought regarding the provisions of this rule, the administrative appeal provisions of 7 CFR part 11 are to be exhausted. For good farming practice determinations, the administrative appeal provisions under 7 CFR part 11 do not apply.

Executive Order 13175

This rule has been reviewed in accordance with the requirements of Executive Order 13175, “Consultation and Coordination with Indian Tribal Governments.” Executive Order 13175 requires Federal agencies to consult and coordinate with Tribes on a government-to-government basis on policies that have Tribal implications, including regulations, legislative comments or proposed legislation, and other policy statements or actions that have substantial direct effects on one or more Indian Tribes, on the relationship between the Federal Government and Indian Tribes or on the distribution of power and responsibilities between the Federal Government and Indian Tribes.

RMA has assessed the impact of this rule on Indian Tribes and determined that this rule does not, to our knowledge, have Tribal implications that require Tribal consultation under E.O. 13175. The regulation changes do not have Tribal implications that preempt Tribal law and are not expected have a substantial direct effect on one or more Indian Tribes. If a Tribe requests consultation, RMA will work with the USDA Office of Tribal Relations to ensure meaningful consultation is provided where changes, additions and modifications identified in this rule are not expressly mandated by Congress.

The Unfunded Mandates Reform Act of 1995

Title II of the Unfunded Mandates Reform Act of 1995 (UMRA, Pub. L. 104-4) requires Federal agencies to assess the effects of their regulatory actions of State, local, and Tribal governments, or the private sector. Agencies generally must prepare a written statement, including cost benefits analysis, for proposed and final rules with Federal mandates that may result in expenditures of $100 million or more in any 1 year for State, local or Tribal governments, in the aggregate, or to the private sector. UMRA generally requires agencies to consider alternatives and adopt the more cost effective or least burdensome alternative that achieves the objectives of the rule. This rule contains no Federal mandates, as defined in Title II of UMRA, for State, local, and Tribal governments, or the private sector. Therefore, this rule is not subject to the requirements of sections 202 and 205 of UMRA.

Federal Assistance Program

The title and number of the Assistance Listing,¹ to which this rule applies is No. 10.450—Crop Insurance.

¹ See https://sam.gov/content/assistance-listings.

Paperwork Reduction Act of 1995

In accordance with the provisions of the Paperwork Reduction Act of 1995 (44 U.S.C. chapter 35, subchapter I), the rule does not change the information collection approved by OMB under control numbers: 0563-0053 and 0563-0083.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY)) or dial 711 for Telecommunications Relay Service (both voice and text telephone users can initiate this call from any telephone). Additionally, program information may be made available in languages other than English. To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or (3) email: program.intake@usda.gov.

USDA is an equal opportunity provider, employer, and lender.

List of Subjects

7 CFR Part 400

Acreage allotments, Administrative practice and procedure, Claims, Crop insurance, Drug traffic control, Fraud, Government employees, Income taxes, Intergovernmental relations, Penalties, Reporting and recordkeeping requirements, Wages.

7 CFR Part 407

Acreage allotments, Administrative practice and procedure, Barley, Corn, Cotton, Crop insurance, Peanuts, Reporting and recordkeeping requirements, Sorghum, Soybeans, Wheat.

7 CFR Part 457

Acreage allotments, Crop insurance, Reporting and recordkeeping requirements.

Final Rule

For the reasons discussed above, FCIC amends 7 CFR parts 400, 407, and 457, effective for the 2025 and succeeding crop years for crops with a contract change date on or after June 30, 2024, and for the 2026 and succeeding crop years for all other crops, as follows:

PART 400—GENERAL ADMINISTRATIVE REGULATIONS

Subpart J—Appeal Procedure

1. Revise the authority citation for part 400, subpart J, to read as follows:

Authority: 7 U.S.C. 1506(l) and 1506(p).

2. Amend § 400.98 by revising paragraphs (b), (d) introductory text, and (d)(3) to read as follows:

§ 400.98 Reconsideration process.

* * * * *

(b) A determination or reconsideration decision regarding good farming practices is not an adverse action and cannot be appealed to NAD.

* * * * *

(d) If the insured seeks reconsideration, the insured must file a written request for reconsideration to the following: USDA RMA Deputy Administrator for Insurance Services, Stop 0801, Room 2004-South ATTN: GFP RECONSIDERATION 1400 Independence Avenue SW Washington, DC 20250-0801, by email to rma.rmsd@usda.gov, or to a successor site or email.

* * * * *

(3) Reconsideration of a good farming practice (GFP) determination will be limited to a closed review of the existing administrative record. The written request must state the basis upon which the insured relies to show that:

(i) The decision was not proper and not made in accordance with applicable program regulations and procedures; or

(ii) The previously provided material facts were not properly considered in such decision.

* * * * *

PART 407—AREA RISK PROTECTION INSURANCE REGULATIONS

3. The authority citation for part 407 continues to read as follows:

Authority: 7 U.S.C. 1506(l) and 1506(o).

4. Amend § 407.9 as follows:

a. In section 1, add a definition of “New breaking acreage” in alphabetical order;

b. In section 4:

i. In paragraph (b)(6), remove the word “or” at the end;

ii. In paragraph (b)(7), remove the period at the end of the paragraph and add “; or” in its place; and

iii. Add paragraph (b)(8);

c. Revise section 5;

d. In section 13, revise paragraph (c)(6);

e. In section 16, revise paragraph (d); and

f. In section 18, revise paragraphs (b) and (c).

The revisions and additions read as follows:

§ 407.9 Area risk protection insurance policy.

* * * * *

1. Definitions

* * * * *

New breaking acreage. Acreage which has not been planted and harvested, or insured within the 4 previous crop years, in accordance with section 5(a).

* * * * *

4. Insured Crop

* * * * *

(b) * * *

(8) That is reported as a cover crop to a USDA agency.

(i) No indemnity will be paid for such acreage and any indemnity already received must be repaid.

(ii) You will still be required to pay 60 percent of the premium you would otherwise be required to pay on those acres.

* * * * *

5. Insurable Acreage

The insurable acreage is all the acreage planted to the insured crop in the county in which you have a share, except as provided in section 5(d). New breaking acreage may be subject to a reduced protection factor in accordance with section 5(b) and native sod acreage may be subject to reduced premium subsidy and protection factor in accordance with section 5(c). The dollar amount of insurance per acre, amount of premium, and indemnity will be calculated separately for each crop, type, and practice shown on the actuarial documents.

(a) New breaking acreage consists of acreage which has not been planted and harvested, or insured, in at least 1 of the 4 previous crop years.

(1) For the purposes of determining new breaking acreage:

(i) Planted includes annual regrowth of a perennial crop;

(ii) Harvested does not include grazing; and

(iii) Insured only includes crops eligible for insurance under these Basic Provisions or the Common Crop Insurance Policy, Basic Provisions (7 CFR part 457).

(2) Acreage that was not planted in at least 3 of the 4 previous crop years to comply with any other USDA program will not be considered new breaking acreage.

(b) New breaking acreage reduction—New breaking acreage is insurable at a protection factor of at most 85 percent, unless that acreage:

(1) Is identified as native sod acreage in accordance with section 5(c), for which the native sod provisions in section 5(c) will apply;

(2) Is uninsurable acreage in accordance with section 5(d); or

(3) Constitutes 5 percent or less of the insured planted acreage in the unit, for which the new breaking limitation to an 85 percent protection factor will not apply.

(c) Native sod acreage reductions—Native sod acreage in the states of Iowa, Minnesota, Montana, Nebraska, North Dakota, or South Dakota may receive a reduced premium subsidy and reduced protection factor. These reductions are applicable during the first 4 crop years of planting on native sod acreage that has been tilled beginning on February 8, 2014, and ending on December 20, 2018, and during 4 cumulative crop years of insurance within the first 10 crop years after initial tillage on native sod acreage tilled after December 20, 2018. For such native sod acreage:

(1) Additional coverage policies receive a premium subsidy that is 50 percentage points less than would otherwise be provided on acreage not qualifying as native sod. If the premium subsidy applicable to these acres is less than 50 percent before the reduction, you will receive no premium subsidy.

(2) The protection factor will be reduced to 65 percent.

(3) Cumulative native sod acreage that is 5 acres or less in the county is not subject to the reduced premium subsidy in section 5(c)(1) or the reduced protection factor stated in section 5(c).

(d) We will not insure any acreage (and any uninsured acreage and production from uninsured acreage will not be included for the purposes of establishing the final county yield):

(1) Where the crop was not planted on or before the final planting date or was not reported by the acreage reporting date;

(2) Where the crop was destroyed or put to another use during the crop year for the purpose of conforming with, or obtaining a payment under, any other program administered by the USDA;

(3) Where we determine you have failed to follow good farming practices for the insured crop;

(4) Where the conditions under which the crop is planted are not generally recognized for the area (for example, where agricultural experts determine that planting a non-irrigated corn crop after a failed small grain crop on the same acreage in the same crop year is not appropriate for the area);

(5) Of a second crop, if you elect not to insure such acreage when an indemnity for a first insured crop may be subject to reduction in accordance with the provisions of section 13 and you intend to collect an indemnity payment that is equal to 100 percent of the insurable loss for the first insured crop acreage. This election must be made for all first insured crop acreage that may be subject to an indemnity reduction if the first insured crop is insured under this policy, or on a first insured crop unit basis if the first insured crop is not insured under this policy (for example, if the first insured crop under this policy consists of 40 acres, or the first insured crop unit insured under another policy contains 40 planted acres, then no second crop can be insured on any of the 40 acres). In this case:

(i) If the first insured crop is insured under ARPI, you must provide written notice to us of your election not to insure acreage of a second crop by the acreage reporting date for the second crop if it is insured under ARPI, or before planting the second crop if it is insured under any other policy;

(ii) If the first insured crop is not insured under ARPI, at the time the first insured crop acreage is released by us or another insurance provider who insures the first insured crop (if no acreage in the first insured crop unit is released, this election must be made by the earlier of acreage reporting date for the second crop or when you sign the claim for the first insured crop);

(iii) If you fail to provide a notice as specified in section 5(d)(5)(i) or (ii), the second crop acreage will be insured in accordance with applicable policy provisions, and you must repay any overpaid indemnity for the first insured crop;

(iv) In the event a second crop is planted and insured with a different insurance provider, or planted and insured by a different person, you must provide written notice to each insurance provider that a second crop was planted on acreage on which you had a first insured crop; and

(v) You must report the crop acreage that will not be insured on the applicable acreage report; and

(6) Of a crop planted following a second crop or following an insured crop that is prevented from being planted after a first insured crop, unless it is a practice that is generally recognized by agricultural experts or organic agricultural experts for the area to plant three or more crops for harvest on the same acreage in the same crop year, and additional coverage insurance provided under the authority of the Act is offered for the third or subsequent crop in the same crop year. Insurance will only be provided for a third or subsequent crop as follows:

(i) You must provide records acceptable to us that show:

(A) You have produced and harvested the insured crop following 2 other crops harvested on the same acreage in the same crop year in at least 2 of the last 4 years in which you produced the insured crop; or

(B) The applicable acreage has had 3 or more crops produced and harvested on it in the same crop year in at least 2 of the last 4 years in which the insured crop was grown on the acreage; and

(ii) The amount of insurable acreage will not exceed 100 percent of the greatest number of acres for which you provide the records required in section 5(d)(6)(i).

* * * * *

13. Indemnity and Premium Limitations

* * * * *

(c) * * *

(6) Coordination of Coverage—For double cropped acreage when one of the crops is insured under this policy and one of the crops is insured under other crop insurance authorized under the Act with less restrictive double crop history records requirements (for example, annual forage insured under the Rainfall Index Plan Common Policy, Basic Provisions, does not require records of acreage and production), the double cropping history requirements in sections 13(c)(4) and (5) do not apply. Instead:

(i) For the crop insured under this policy, you may receive a full indemnity if you meet each of the double cropping requirements in sections 13(c)(1) through (3), regardless of which crop was the first insured crop or the second crop; or

(ii) If you do not meet each of the double cropping requirements in sections 13(c)(1) through (3), the indemnity reductions in section 13(a)(2) apply.

* * * * *

16. Assignment of Indemnity

* * * * *

(d) If we have received the properly executed assignment of indemnity form, only one payment will be issued jointly in the names of all assignees and you, unless all assignees and you agree in writing for the payment to be issued to a single payee.

* * * * *

18. Other Insurance

* * * * *

(b) You must demonstrate that you did not intend to have more than one policy in effect (for example, an application to transfer your policy or written notification to an insurance provider that states you want to purchase, or transfer, insurance and you want any other policies for the crop canceled would demonstrate you did not intend to have duplicate policies) and:

(1) One is an additional coverage policy, and the other is a CAT policy:

(i) If both policies are with the same insurance provider, the additional coverage policy will apply and the CAT policy will be void;

(ii) If both policies are with different insurance providers and both insurance providers agree, the additional coverage policy will apply and the CAT policy will be void; or

(iii) If both policies are with different insurance providers and both insurance providers do not agree, the policy with the earliest application date will be in force and the other policy will be void; or

(2) Both are additional coverage policies, or both are CAT policies, the policy with the earliest application date will be in force and the other policy will be void, unless both policies are with:

(i) The same insurance provider and the insurance provider agrees to void the policy with the earliest application date; or

(ii) Different insurance providers and both insurance providers agree to void the policy with the earliest application date.

(c) If you cannot demonstrate that you did not intend to have more than one policy in effect, you may be subject to the consequences authorized under this policy, the Act, or any other applicable statute.

* * * * *

PART 457—COMMON CROP INSURANCE REGULATIONS

5. Revise the authority citation for part 457 to read as follows:

Authority: 7 U.S.C. 1506(l) and 1506(o).

6. Amend § 457.8 in the “Common Crop Insurance Policy” as follows:

a. In section 1:

i. Revise the definition of “Enterprise unit”;

ii. Add a definition of “New breaking acreage” in alphabetical order;

iii. In the definition of “Production reporting date”, remove the words “date, provided in the actuarial documents, by” and add “date contained in the actuarial documents by” in their place; and

iv. In the definition of “Variable T-Yield”, remove the words “in the county” and add “in the county, unless otherwise specified by FCIC approved procedures” in their place;

b. In section 8:

i. In paragraph (b)(5), remove the word “or” at the end;

ii. In paragraph (b)(6), remove the period at the end of the paragraph and add “; or” in its place; and

iii. Add paragraph (b)(7);

c. Revise section 9;

d. In section 15:

i. Revise paragraph (h)(7); and

ii. Add paragraph (h)(8);

e. In section 22, revise paragraph (a);

f. In section 29, revise paragraphs (d) and (e);

g. In section 34:

i. In paragraph (a) introductory text, remove the words “You may” and add “Election of Enterprise Unit and Whole-Farm Unit—You may” in their place;

ii. In paragraph (a)(1) introductory text, remove the words “You must” and add “Election Date—You must” in their place;

iii. In paragraph (a)(2) introductory text, remove the words “For an” and add “Enterprise Units—For an” in their place;

iv. Revise paragraph (a)(2)(i) introductory text;

v. In paragraph (a)(2)(i)(E), remove the word “or” at the end;

vi. In paragraph (a)(2)(i)(F), remove the word “and” and add “or” in its place;

vii. Add paragraph (a)(2)(i)(G);

viii. Revise paragraph (a)(2)(ii);

ix. Remove paragraphs (a)(2)(iii) through (vii);

x. Add new paragraphs (a)(2)(iii) and (iv);

xi. Redesignate paragraph (a)(2)(viii) as paragraph (a)(2)(v);

xii. Revise newly redesignated paragraph (a)(2)(v) introductory text;

xiii. In newly redesignated paragraph (a)(2)(v)(D)(2), remove the period at the end of the paragraph and add a semicolon in its place;

xiv. Add new paragraphs (a)(2)(vi) through (viii);

xv. Remove paragraph (a)(2)(ix);

xvi. In paragraph (a)(3)(v)(A) introductory text, remove the word “of”; and

xvii. Revise paragraph (c); and

h. In section 37, in paragraph (h), remove the words “organic practice” and add “organic farming practice” in their place.

The revisions and additions read as follows:

§ 457.8 The application and policy.

* * * * *

Common Crop Insurance Policy

* * * * *

1. Definitions

* * * * *

Enterprise unit. All insurable acreage in the county in which you have a share on the date coverage begins for the crop year, provided you meet the requirements in section 34 of:

(1) The same insured crop;

(2) Irrigated or non-irrigated acreage of the same insured crop; or

(3) Acreage grown under an organic farming practice or acreage not grown under an organic farming practice of the same insured crop.

* * * * *

New breaking acreage. Acreage which has not been planted and harvested, or insured within the 4 previous crop years, in accordance with section 9(a).

* * * * *

8. Insured Crop

* * * * *

(b) * * *

(7) That is reported as a cover crop to a USDA agency.

(i) No indemnity will be paid for such acreage and any indemnity already received must be repaid.

(ii) You will still be required to pay 60 percent of the premium you would otherwise be required to pay on those acres.

* * * * *

9. Insurable Acreage

The insurable acreage is all the acreage planted to the insured crop in the county in which you have a share, except as provided in section 9(d). New breaking acreage may be subject to a reduced approved yield in accordance with section 9(b) and native sod acreage may be subject to reduced premium subsidy and approved yield in accordance with section 9(c).

(a) New breaking acreage consists of acreage which has not been planted and harvested, or insured, in any 1 of the 4 previous crop years.

(1) For the purposes of determining new breaking acreage:

(i) Planted includes annual regrowth of a perennial crop;

(ii) Harvested does not include grazing;

(iii) Insured includes insured prevented planting acreage; and

(iv) Only crops eligible for insurance under these Basic Provisions are considered when determining if the acreage has been planted, harvested, or insured.

(2) Acreage that was not planted in at least 3 of the 4 previous crop years to comply with any other USDA program will not be considered new breaking acreage.

(b) New breaking acreage reduction—New breaking acreage is insurable at 85 percent of the applicable T-Yield, unless that acreage:

(1) Is identified as native sod acreage in accordance with section 9(c), for which the native sod provisions in section 9(c) will apply;

(2) Is uninsurable acreage in accordance with section 9(d); or

(3) Constitutes 5 percent or less of the insured planted acreage in the unit, for which the new breaking reduction to 85 percent of the applicable T-Yield will not apply.

(c) Native sod acreage reductions—Native sod acreage in the states of Iowa, Minnesota, Montana, Nebraska, North Dakota, or South Dakota may receive reduced premium subsidy and reduced approved yield. These reductions are applicable during the first 4 crop years of planting on native sod acreage that has been tilled beginning on February 8, 2014, and ending on December 20, 2018, and during 4 cumulative crop years of insurance within the first 10 crop years after initial tillage on native sod acreage tilled after December 20, 2018. For such native sod acreage:

(1) Additional coverage policies receive a premium subsidy that is 50 percentage points less than would otherwise be provided on acreage not qualifying as native sod. If the premium subsidy applicable to these acres is less than 50 percent before the reduction, you will receive no premium subsidy.

(2) The approved yield is limited to 65 percent of the applicable T-Yield.

(3) Cumulative native sod acreage that is 5 acres or less in the county is not subject to the reduced premium subsidy in section 9(c)(1) or the reduced approved yield in section 9(c)(2).

(d) The acreage is not insurable if:

(1) The acreage has been strip-mined. However, such acreage may be insurable only if:

(i) An agricultural commodity, other than a cover, hay (except wheat harvested for hay), or forage crop (except insurable silage) has been harvested from the acreage for at least 5 crop years after the strip-mined land was reclaimed; or

(ii) A written agreement specifically allows insurance for such acreage;

(2) The actuarial documents do not provide the information necessary to determine the premium rate, unless insurance is allowed by a written agreement;

(3) The insured crop is damaged and it is practical to replant the insured crop, but the insured crop is not replanted;

(4) The acreage is interplanted, unless insurance is allowed by the Crop Provisions;

(5) The acreage is otherwise restricted by the Crop Provisions or Special Provisions;

(6) The acreage is planted in any manner other than as specified in the policy provisions for the crop unless a written agreement specifically allows insurance for such planting;

(7) The acreage is of a second crop, if you elect not to insure such acreage when an indemnity for a first insured crop may be subject to reduction in accordance with the provisions of section 15 and you intend to collect an indemnity payment that is equal to 100 percent of the insurable loss for the first insured crop acreage. This election must be made on a first insured crop unit basis (for example, if the first insured crop unit contains 40 planted acres that may be subject to an indemnity reduction, then no second crop can be insured on any of the 40 acres). In this case:

(i) If the first insured crop is insured under this policy, you must provide written notice to us of your election not to insure acreage of a second crop at the time the first insured crop acreage is released by us (if no acreage in the first insured crop unit is released, this election must be made by the earlier of the acreage reporting date for the second crop or when you sign the claim for indemnity for the first insured crop) or, if the first insured crop is insured under Area Risk Protection Insurance (7 CFR part 407), this election must be made before the second crop insured under this policy is planted, and if you fail to provide such notice, the second crop acreage will be insured in accordance with the applicable policy provisions and you must repay any overpaid indemnity for the first insured crop;

(ii) In the event a second crop is planted and insured with a different insurance provider, or planted and insured by a different person, you must provide written notice to each insurance provider that a second crop was planted on acreage on which you had a first insured crop; and

(iii) You must report the crop acreage that will not be insured on the applicable acreage report; or

(8) The acreage is of a crop planted following a second crop or following an insured crop that is prevented from being planted after a first insured crop, unless it is a practice that is generally recognized by agricultural experts or organic agricultural experts for the area to plant 3 or more crops for harvest on the same acreage in the same crop year, and additional coverage insurance provided under the authority of the Act is offered for the third or subsequent crop in the same crop year. Insurance will only be provided for a third or subsequent crop as follows:

(i) You must provide records acceptable to us that show:

(A) You have produced and harvested the insured crop following 2 other crops harvested on the same acreage in the same crop year in at least 2 of the last 4 years in which you produced the insured crop; or

(B) The applicable acreage has had 3 or more crops produced and harvested on it in the same crop year in at least 2 of the last 4 years in which the insured crop was grown on the acreage; and

(ii) The amount of insurable acreage will not exceed 100 percent of the greatest number of acres for which you provide the records required in section 9(d)(8)(i).

(e) If insurance is provided for an irrigated practice, you must report as irrigated only that acreage for which you have adequate facilities and adequate water, or the reasonable expectation of receiving adequate water at the time coverage begins, to carry out a good irrigation practice. If you knew or had reason to know that your water may be reduced before coverage begins, no reasonable expectation exists.

(f) Notwithstanding the provisions in section 8(b)(2), if acreage is irrigated and a premium rate is not provided for an irrigated practice, you may either report and insure the irrigated acreage as “non-irrigated,” or report the irrigated acreage as not insured. (If you elect to insure such acreage under a non-irrigated practice, your irrigated yield will only be used to determine your approved yield if you continue to use a good irrigation practice. If you do not use a good irrigation practice, you will receive a yield determined in accordance with section 3(h)(3).)

(g) We may restrict the amount of acreage that we will insure to the amount allowed under any acreage limitation program established by USDA if we notify you of that restriction prior to the sales closing date.

* * * * *

15. Production Included in Determining an Indemnity and Payment Reductions

* * * * *

(h) * * *

(7) Coordination of Coverage—For double cropped acreage when one of the crops is insured under this policy and one of the crops is insured under other crop insurance authorized under the Act with less restrictive double crop history records requirements (for example, annual forage insured under the Rainfall Index Plan Common Policy, Basic Provisions, does not require records of acreage and production), the double cropping history requirements in sections 15(h)(5) and (6) do not apply. Instead:

(i) For the crop insured under this policy, you may receive a full indemnity if you meet each of the double cropping requirements in sections 15(h)(1) through (3), regardless of which crop was the first insured crop or the second crop. If you do not meet each of the double cropping requirements in sections 15(h)(1) through (3), the indemnity reductions in section 15(e)(2) apply.

(ii) Prevented Planting—For the crop insured under this policy, you may receive a full prevented planting payment if you:

(A) Meet the requirements in sections 15(h)(1) through (4) and sections 17(f)(4)(ii) and (iii); and

(B) Provide records, acceptable to us, proving that you have a history of insuring the crop under other crop insurance authorized under the Act.

(8) Dual Use—For a single crop that is insured both under this policy and under other crop insurance authorized under the Act for different end uses (for example, wheat insured for grain under the Small Grains Crop Provisions and wheat insured as annual forage under the Annual Forage Crop Provisions), that is then followed by a crop insured under this policy, the double cropping history requirements in sections 15(h)(1) through (6) apply to the crops insured under this policy.

* * * * *

22. Other Insurance

(a) Other Like Insurance—Nothing in this section prevents you from obtaining other insurance not authorized under the Act. However, unless specifically required by policy provisions, you must not obtain any other crop insurance authorized under the Act on your share of the insured crop.

(1) You must demonstrate that you did not intend to have more than one policy in effect (for example, an application to transfer your policy or written notification to an insurance provider that states you want to purchase, or transfer insurance and you want any other policies for the crop canceled would demonstrate you did not intend to have duplicate policies), and:

(i) One is an additional coverage policy and the other is a Catastrophic Risk Protection policy:

(A) If both policies are with the same insurance provider, the additional coverage policy will apply and the Catastrophic Risk Protection policy will be void;

(B) If both policies are with different insurance providers and both insurance providers agree, the additional coverage policy will apply and the Catastrophic Risk Protection policy will be void; or

(C) If both policies are with different insurance providers and both insurance providers do not agree, the policy with the earliest application date will be in force and the other policy will be void; or

(ii) Both are additional coverage policies, or both are Catastrophic Risk Protection policies, the policy with the earliest application date will be in force and the other policy will be void, unless both policies are with:

(A) The same insurance provider and the insurance provider agrees to void the policy with the earliest application date; or

(B) Different insurance providers and both insurance providers agree to void the policy with the earliest application date.

(2) If you cannot demonstrate that you did not intend to have more than one policy in effect, you may be subject to the consequences authorized under this policy, the Act, or any other applicable statute.

* * * * *

29. Assignment of Indemnity

* * * * *

(d) If we have received the properly executed assignment of indemnity form:

(1) Only one payment will be issued jointly in the names of all assignees and you, unless all assignees and you agree in writing for the payment to be issued to a single payee; and

(2) Any assignee will have the right to submit all loss notices and forms as required by the policy if you fail to do so. If you have suffered a loss from an insurable cause and fail to submit a claim for indemnity within the period specified in section 14(e):

(i) An assignee may submit the claim for indemnity not later than 30 days after the period for filing a claim has expired.

(ii) No indemnity will be paid if we determine that we do not have the ability to accurately adjust the loss for any claim for indemnity. You or any assignee may not dispute the determination.

(e) If an assignee submits a notice of loss or claim for indemnity because of your failure to timely do so, the assignee assumes any rights and responsibilities you may have under section 20 to dispute determinations related to the notice of loss or claim for indemnity, except for determinations made in accordance with section 29(d)(2)(ii).

* * * * *

34. Units

(a) * * *

(2) * * *

(i) The acreage in an enterprise unit must be located in:

* * * * *

(G) Two or more non-contiguous parcels of land, if non-contiguous parcels of land are allowed by the Crop Provisions or Special Provisions as a basis for optional units where the insured acreage is located;

(ii) At least two of the sections, section equivalents, FSA farm numbers, units established by written agreement, or non-contiguous parcels of land in section 34(a)(2)(i)(A), (B), (C), (D), (F), or (G) must each have planted acreage that constitutes at least the lesser of 20 acres or 20 percent of the insured crop acreage in the enterprise unit. If there is planted acreage in more than two sections, section equivalents, FSA farm numbers, units established by written agreement, or non-contiguous parcels of land in section 34(a)(2)(i)(A), (B), (C), (D), (F), or (G), these can be aggregated to form at least two parcels to meet this requirement. For example, if sections are the basis for optional units where the insured acreage is located and you have 80 planted acres in section 1, 10 planted acres in section 2, and 10 planted acres in section 3, you may aggregate sections 2 and 3 to meet this requirement;

(iii) You must separately designate on the acreage report each section or other basis in section 34(a)(2)(i) you used to qualify for an enterprise unit;

(iv) You may elect an enterprise unit that contains all the insurable acreage of the same insured crop if allowed by the actuarial documents.

(A) You must meet the requirement in sections 34(a)(2)(i) through (iii) to qualify.

(B) If we discover you do not qualify for an enterprise unit and such discovery is made:

(1) On or before the acreage reporting date, your unit division will be based on the basic or optional units, whichever you report on your acreage report and qualify for; or

(2) At any time after the acreage reporting date, we will assign the basic unit structure;

(v) You may elect separate enterprise units for irrigated or non-irrigated practices if allowed by the actuarial documents. If you make this election, you may not elect enterprise units by organic farming practice under section 34(a)(2)(vi).

* * * * *

(vi) You may elect separate enterprise units for acreage of the insured crop grown and insured under an organic farming practice and acreage of the insured crop not grown under an organic farming practice if allowed by the actuarial documents. If you make this election, you may not elect enterprise units by irrigation practice under section 34(a)(2)(v). Certified organic, transitional, and buffer zone acreages do not individually qualify as separate enterprise units. (See section 37 for additional provisions regarding acreage insured under an organic farming practice.)

(A) You may elect one enterprise unit for all acreage of the insured crop grown and insured under an organic farming practice or one enterprise unit for all acreage of the insured crop not grown under an organic farming practice or enterprise units for both.

(B) You must separately meet the requirements in section 34(a)(2) for each enterprise unit.

(C) If you elected separate enterprise units for both acreage under an organic farming practice and acreage not under an organic farming practice and we discover you do not qualify for an enterprise unit for the acreage under an organic farming practice or acreage not grown under an organic farming practice and such discovery is made:

(1) On or before the acreage reporting date, you may elect to insure:

(i) One enterprise unit for all acreage under an organic farming practice or all acreage not under an organic farming practice provided you meet the requirements in section 34(a)(2), and basic or optional units for the other acreage, whichever you report on your acreage report and qualify for;

(ii) One enterprise unit for all acreage of the crop in the county provided you meet the requirements in section 34(a)(2); or

(iii) Basic or optional units for all acreage of the crop in the county, whichever you report on your acreage report and qualify for; or

(2) At any time after the acreage reporting date, your unit structure will be one enterprise unit for all acreage of the crop in the county provided you meet the requirements in section 34(a)(2). Otherwise, we will assign the basic unit structure.

(D) If you elected an enterprise unit for acreage under an organic farming practice or acreage not under an organic farming practice and a different unit structure on the other acreage and we discover you do not qualify for an enterprise unit for the acreage under an organic farming practice or acreage not grown under an organic farming practice and such discovery is made:

(1) On or before the acreage reporting date, your unit division will be based on basic or optional units, whichever you report on your acreage report and qualify for; or

(2) At any time after the acreage reporting date, we will assign the basic unit structure;

(vii) If you want to change your unit structure from enterprise units to basic or optional units in any subsequent crop year, you must maintain separate records of acreage and production:

(A) For each basic unit, to be eligible to use records to establish the production guarantee for the basic unit; or

(B) For optional units, to qualify for optional units and to be eligible to use such records to establish the production guarantee for the optional units; and

(viii) If you do not comply with the production reporting provisions in section 3(f) for the enterprise unit, your yield for the enterprise unit will be determined in accordance with section 3(f)(1).

* * * * *

(c) Each optional unit must meet at least one of the following, unless otherwise specified in the Crop Provisions or allowed by written agreement:

(1) Land location—

(i) Section—Optional units may be established if each optional unit is located in a separate section where the boundaries are readily discernible.

(ii) Section equivalent—In the absence of sections, we may consider parcels of land legally identified by other methods of measure, such as Spanish grants, provided the boundaries are readily discernible, if such parcels can be considered as the equivalent of sections for unit purposes in accordance with FCIC procedures; or

(iii) FSA farm number—In the absence of sections or section equivalents as described in section 34(c)(1)(i) and (ii), optional units may be established if each optional unit is located in a separate FSA farm number in accordance with FCIC procedures;

(2) Irrigation practice—Separate optional units may be based on irrigated and non-irrigated acreage. To qualify as separate irrigated and non-irrigated optional units, the non-irrigated acreage may not continue into the irrigated acreage in the same rows or planting pattern. The irrigated acreage may not extend beyond the point at which the irrigation system can deliver the quantity of water needed to produce the yield on which the guarantee is based, except the corners of a field in which a center-pivot irrigation system is used may be considered as irrigated acreage if the corners of a field in which a center-pivot irrigation system is used do not qualify as a separate non-irrigated optional unit. In this case, production from both practices will be used to determine your approved yield;

(3) Organic farming practice—Separate optional units may be established for acreage of the insured crop grown and insured under an organic farming practice and acreage of the insured crop not grown under an organic farming practice. Certified organic, transitional, and buffer zone acreages do not individually qualify as separate optional units. (See section 37 for additional provisions regarding acreage insured under an organic farming practice.); or

(4) Combinations—Unless restricted otherwise by the Crop Provisions, each category within sections 34(c)(1), (2), and (3) may be independently applicable. Separate optional units based on combinations of categories between sections 34(c)(1) through (3) may be established if all acreage from the corresponding basic unit has the same optional unit structure. For example, you may choose to divide your entire basic unit into optional units by land location, irrigation practice, and organic farming practice, but you may not choose an optional unit by land location for one section and further divide a second section into optional units by irrigation practice, organic farming practice, or both.

* * * * *

7. Amend § 457.101 as follows:

a. Revise the introductory text and the undesignated text at the beginning of the “Small Grains Crop Provisions”;

b. In section 2:

i. Revise paragraph (a) introductory text;

ii. In paragraph (a)(2), remove the words “section 34(a)(4)” and add “section 34(a)(2)” in their place; and

iii. In paragraphs (a)(3)(i)(A) and (B) and (a)(3)(ii), remove the words “section 34(a)(4)” and add “section 34(a)(2) of the Basic Provisions” in their place;

c. In section 5, revise the column headings in the table; and

d. In section 11, in paragraph (c)(1)(iii), remove the words “paragraph (d) of this section” and add “section 11(d)” in their place.

The revisions read as follows:

§ 457.101 Small grains crop insurance provisions.

The Small Grains Crop Insurance Provisions for the 2025 and succeeding crop years are as follows:

United States Department of Agriculture

Federal Crop Insurance Corporation

Small Grains Crop Provisions

In return for your payment of premium and administrative fee for coverage, these Small Grains Crop Provisions and corresponding Commodity Exchange Price Provisions will be attached to and made part of the Common Crop Insurance Policy, Basic Provisions (Basic Provisions) subject to the terms and conditions in your policy.

* * * * *

2. Unit Division

(a) In addition to enterprise units provided in section 34(a)(2) of the Basic Provisions, for wheat only, you may elect separate enterprise units by type, as provided in this section, if allowed by the actuarial documents. If you elect enterprise units by type, you may not elect enterprise or optional units by any other practice or type.

* * * * *

5. Cancellation and Termination Dates

* * * * *

Crop, state, and county | Cancellation date | Termination date
* * * * * * *

* * * * *

8. Amend § 457.108 as follows:

a. Revise the introductory text and the undesignated text at the beginning of the “Sunflower Seed Crop Provisions”;

b. In section 2:

i. Revise paragraph (a) introductory text;

ii. In paragraph (a)(1), remove the words “For example: You” and add “For example, you” in their place;

iii. In paragraph (a)(2), remove the words “section 34(a)(4)” and add “section 34(a)(2) of the Basic Provisions” in their place; and

iv. In paragraphs (a)(3)(i)(A) and (B) and (a)(3)(ii), remove the words “section 34(a)(4)” and add “section 34(a)(2) of the Basic Provisions” in their place;

c. In section 3, revise the section heading;

d. In section 5, revise the section heading and column headings in the table;

e. In section 7, in the introductory text, remove the words “the provisions of”;

f. Revise section 8;

g. In section 9, in the introductory text, remove the words “the provisions of”; and

h. In section 12, revise paragraph (b)(6) and the example paragraphs between paragraphs (b)(6) and (c).

The revisions read as follows:

§ 457.108 Sunflower seed crop insurance provisions.

The Sunflower Seed Crop Insurance Provisions for the 2025 and succeeding crop years are as follows:

United States Department of Agriculture

Federal Crop Insurance Corporation

Sunflower Seed Crop Provisions

In return for your payment of premium and administrative fee for coverage, these Sunflower Seed Crop Provisions and corresponding Commodity Exchange Price Provisions will be attached to and made part of the Common Crop Insurance Policy, Basic Provisions (Basic Provisions) subject to the terms and conditions in your policy.

* * * * *

2. Unit Division

(a) In addition to enterprise units provided in section 34(a)(2) of the Basic Provisions, you may elect separate enterprise units for confectionery or oil types if these types are allowed by the actuarial documents. If you elect enterprise units for these types, you may not elect enterprise or optional units by any other practice or type.

* * * * *

3. Insurance Guarantees, Coverage Levels, and Prices

* * * * *

5. Cancellation and Termination Dates

* * * * *

State and county | Cancellation and termination dates
* * * * * * *

* * * * *

8. Insurance Period

In accordance with section 11 of the Basic Provisions, the calendar date for the end of the insurance period is November 30, immediately following planting, unless otherwise specified in the Special Provisions.

* * * * *

12. Settlement of Claim

* * * * *

(b) * * *

(6) Multiplying the result of section 12(b)(5) by your share.

Example for Section 12(b)

You have 100 percent share in 50 acres of sunflowers in the unit with a production guarantee (per acre) of 1,550 pounds, your projected price is $.28, your harvest price is $.29, and your production to count is 65,000 pounds.

If you elected yield protection:

(1) 50 acres × (1,550 pound production guarantee × $.28 projected price) = $21,700.00 value of the production guarantee;

(2) Not applicable;

(3) 65,000 pound production to count × $.28 projected price = $18,200.00 value of production to count;

(4) Not applicable;

(5) $21,700.00−$18,200.00 = $3,500.00;

(6) $3,500.00 × 1.000 share = $3,500.00 indemnity; or

If you elected revenue protection:

(1) 50 acres × (1,550 pound production guarantee × $.29 harvest price) = $22,475.00 revenue protection guarantee;

(2) Not applicable;

(3) 65,000 pound production to count × $.29 harvest price = $18,850.00 value of the production to count;

(4) Not applicable;

(5) $22,475.00−$18,850.00 = $3,625.00;

(6) $3,625.00 × 1.000 share = $3,625.00 indemnity.

End of Example.

* * * * *

9. Amend § 457.110 as follows:

a. Revise the introductory text and the undesignated text at the beginning of the “Fig Crop Provisions”;

b. In section 1, revise the definitions of “Interplanted” and “Manufacturing grade production”;

c. Revise section 2;

d. In section 3:

i. Revise the section heading and paragraph (c)(5); and

ii. Add paragraph (d);

e. Revise section 4;

f. In section 7:

i. In paragraph (d), remove the words “growing season” and add “leaf year” in their place; and

ii. Revise paragraph (f)(1);

g. In section 8, remove the words “Basic Provisions, that” and add “Basic Provisions that” in their place;

h. In section 9:

i. In paragraph (a) introductory text, remove the words “the provisions of”;

ii. In paragraph (a)(2), remove the words “harvested (Exceptions” and add “harvested (exceptions” in their place; and

iii. In paragraph (b), remove the words “paragraph (a)(1) of this section” and add “section 9(a)(1)” in their place;

i. In section 10:

i. In paragraph (a) introductory text, remove the words “the provisions under section 12 (Causes of Loss) of the Basic Provisions (§ 457.8)” and add “section 12 of the Basic Provisions” in their place; and

ii. Revise paragraph (b) introductory text; and

j. In section 11, redesignate paragraph (c)(3)(ii)(c) as paragraph (c)(3)(ii)(C).

The revisions and addition read as follows:

§ 457.110 Fig crop insurance provisions.

The Fig Crop Insurance Provisions for the 2025 and succeeding crop years are as follows:

United States Department of Agriculture

Federal Crop Insurance Corporation

Fig Crop Provisions

In return for your payment of premium and administrative fee for the coverage, these Fig Crop Provisions will be attached to and made part of the Common Crop Insurance Policy, Basic Provisions (Basic Provisions) subject to the terms and conditions in your policy.

* * * * *

1. Definitions

* * * * *

Interplanted. In lieu of the definition in section 1 of the Basic Provisions, acreage on which two or more crops are planted in any form of alternating or mixed pattern.

Manufacturing grade production. Production that meets the United States Standards for Grades of Dried Figs, Grade B, as amended, which is in effect on the date insurance attaches.

* * * * *

2. Unit Division

(a) A basic unit, as defined in section 1 of the Basic Provisions, will be divided into additional basic units by each fig type designated in the Special Provisions.

(b) Optional units may be established by:

(1) Organic and non-organic farming practices as provided in section 34(c)(3) of the Basic Provisions; or

(2) Non-contiguous land.

(c) Optional units by land location as provided in section 34(c)(1) of the Basic Provisions and by irrigation practice as provided in section 34(c)(2) of the Basic Provisions are not applicable.

3. Insurance Guarantees, Coverage Levels, and Prices

* * * * *

(c) * * *

(5) Any other information that we request in order to establish your approved yield.

(d) We will reduce the approved yield, as necessary, based on our estimate of the effect of any circumstance listed in section 3(c) that may reduce your yields from previous levels. If you fail to notify us of any circumstance that may reduce your yields from previous levels, we will reduce your approved yield at any time we become aware of the circumstance. If the circumstance occurred:

(1) Before the beginning of the insurance period and you notify us by the production reporting date, the approved yield will be reduced for the current crop year regardless of whether the circumstance was due to an insured or uninsured cause of loss;

(2) After the beginning of the insurance period and you notify us by the production reporting date, the approved yield will be reduced for the current crop year only if the potential reduction in the approved yield is due to an uninsured cause of loss; or

(3) Before or after the beginning of the insurance period and you fail to notify us by the production reporting date, an amount equal to the reduction in the approved yield will be added to the production to count calculated in section 11(c)(3) due to uninsured causes. We will reduce your approved yield for the subsequent crop year to reflect any reduction in the productive capacity of the trees or in the yield potential of the insured acreage.

4. Contract Changes

In accordance with section 4 of the Basic Provisions, the contract change date is October 31 preceding the cancellation date.

* * * * *

7. Insured Crop

* * * * *

(f) * * *

(1) Grown on acreage with less than 90 percent of a stand based on the original planting pattern, unless otherwise allowed by the Special Provisions;

* * * * *

10. Causes of Loss

* * * * *

(b) In addition to the causes of loss excluded in section 12 of the Basic Provisions, we will not insure against damage or loss of production due to:

* * * * *

10. Amend § 457.113 as follows:

a. Revise the introductory text and the undesignated text at the beginning of the “Coarse Grains Crop Provisions”;

b. In section 2:

i. Remove the period at the end of the section heading;

ii. Revise paragraph (a) introductory text; and

iii. In paragraphs (a)(3) introductory text, (a)(4)(i)(A) and (B), and (a)(4)(ii), remove the words “section 34(a)(4)” and add “section 34(a)(2) of the Basic Provisions” in their place;

iv. In paragraph (b), remove the words “FSA FN” and add “FSA farm number” in their place;

c. In section 3, revise the section heading;

d. Revise section 5;

e. In section 6, in paragraph (b) introductory text, remove the words “the provisions of”;

f. In section 7, remove the words “the provisions of”;

g. Revise section 8;

h. In section 9, in the introductory text, remove the words “the provisions of”;

i. In section 10, in paragraph (a)(1), remove the words “provisions in”; and

j. In section 12, revise paragraph (b)(6) and the example paragraphs between paragraphs (b)(6) and (c).

The revisions read as follows:

§ 457.113 Coarse grains crop insurance provisions.

The Coarse Grains Crop Insurance Provisions for the 2025 and succeeding crop years are as follows:

United States Department of Agriculture

Federal Crop Insurance Corporation

Coarse Grains Crop Provisions In return for your payment of premium and administrative fee for coverage, these Coarse Grains Crop Provisions and corresponding Commodity Exchange Price Provisions will be attached to and made part of the Common Crop Insurance Policy, Basic Provisions (Basic Provisions) subject to the terms and conditions in your policy.

* * * * *

2. Unit Division

(a) In addition to enterprise units provided in section 34(a)(2) of the Basic Provisions, you may elect separate enterprise units for FAC or NFAC cropping practices if the FAC and NFAC cropping practices are allowed by the actuarial documents. If you elect enterprise units for FAC and NFAC cropping practices, you may not elect enterprise or optional units by any other practice or type.

* * * * *

3. Insurance Guarantees, Coverage Levels, and Prices

* * * * *

5. Cancellation and Termination Dates

In accordance with section 2 of the Basic Provisions, the cancellation and termination dates are:

Crop, state, and county | Cancellation and termination dates
(a) For corn and grain sorghum:
(1) Kerr, Bexar, Wilson, Karnes, Goliad, Victoria, and Jackson Counties, Texas, and all Texas counties lying south of the named counties | January 31.
(2) El Paso, Reeves, Loving, Upton, Reagan, Sterling, Coke, Tom Green, Concho, McCulloch, San Saba, Mills, Hamilton, Bosque, Johnson, Tarrant, Wise, Cooke Counties, Texas, and all Texas counties lying south and east of the named counties to and including Sutton, Kimble, Gillespie, Comal, Guadalupe, Gonzales, De Witt, Lavaca, Colorado, Wharton, and Matagorda Counties, Texas | February 15.
(3) Alabama; Arizona; Arkansas; California; Florida; Georgia; Louisiana; Mississippi; Nevada; North Carolina; and South Carolina | February 28.
(4) All other Texas counties and all other states | March 15.
(b) For soybeans:
(1) Jackson, Victoria, Goliad, Bee Counties, Texas, and all Texas counties lying south of the named counties | January 31.
(2) Alabama; Arkansas; Florida; Georgia; Louisiana; Mississippi; North Carolina; and South Carolina; and, Cooke, Denton, Coryell, Fayette, Lavaca, and Matagorda Counties, Texas, and all Texas counties lying east of the named counties | February 28.
(3) All other Texas counties and all other states | March 15.

* * * * *

8. Insurance Period

In accordance with section 11 of the Basic Provisions, unless otherwise specified in the Special Provisions, the calendar date for the end of the insurance period is the date immediately following planting as follows:

Crop, state, and county | End of the insurance period dates
(a) For corn insured as grain:
(1) Kerr, Bexar, Wilson, Karnes, Goliad, Victoria, and Jackson Counties, Texas, and all Texas counties lying south of the named counties | September 30.
(2) Clallam, Grays Harbor, Jefferson, King, Kitsap, Pierce, Snohomish, and Thurston Counties, Washington | October 31.
(3) All other counties and states | December 10.
(b) For corn insured as silage:
(1) Connecticut, Delaware, Idaho, Maine, Maryland, Massachusetts, New Hampshire, New Jersey, New York, North Carolina, Oregon, Pennsylvania, Rhode Island, Vermont, Virginia, Washington, and West Virginia | October 20.
(2) All other states | September 30.
(c) For grain sorghum:
(1) Bexar, Wilson, Karnes, Goliad, Victoria, and Jackson Counties, Texas, and all Texas counties lying south of the named counties | September 30.
(2) All other Texas counties and all other states | December 10.
(d) For soybeans: All states | December 10.

* * * * *

12. Settlement of Claim

* * * * *

(b) * * *

(6) Multiplying the result of section 12(b)(5) by your share.

Example for Section 12(b)

You have 100 percent share in 50 acres of corn in the unit with a production guarantee (per acre) of 115 bushels, your projected price is $4.75, your harvest price is $4.68, and your production to count is 5,000 bushels.

If you elected yield protection:

(1) 50 acres × (115 bushel production guarantee × $4.75 projected price) = $27,312.50 value of the production guarantee;

(2) Not applicable;

(3) 5,000 bushel production to count × $4.75 projected price = $23,750.00 value of the production to count;

(4) Not applicable;

(5) $27,312.50−$23,750.00 = $3,562.50;

(6) $3,562.50 × 1.000 share = $3,562.50 indemnity; or

If you elected revenue protection:

(1) 50 acres × (115 bushel production guarantee × $4.75 projected price) = $27,312.50 revenue protection guarantee;

(2) Not applicable;

(3) 5,000 bushel production to count × $4.68 harvest price = $23,400.00 value of the production to count;

(4) Not applicable;

(5) $27,312.50−$23,400.00 = $3,912.50;

(6) $3,912.50 × 1.000 share = $3,912.50 indemnity.

End of Example.

* * * * *

11. Amend § 457.121 as follows:

a. Revise the introductory text and the undesignated text at the beginning of the “Arizona-California Citrus Crop Provisions”;

b. In section 1, in the definition of “Crop year”, remove the words “The period beginning” and add “In lieu of the definition contained in section 1 of the Basic Provisions, the period beginning” in their place;

c. Revise section 2;

d. In section 3:

i. In paragraph (c) introductory text, remove the text “(§ 457.8)”; and

ii. Revise paragraph (d);

e. In sections 4 and 5, remove the text “(§ 457.8)”;

f. In section 7, remove the words “the provisions in”;

g. In section 8:

i. In paragraph (a) introductory text, remove the words “the provisions of” and “(§ 457.8)”; and

ii. In paragraph (b) introductory text, remove the words “the provisions of” and “(§ 457.8)”;

h. In section 9, in paragraph (a), remove the words “the provisions of” and “(§ 457.8)”; and

i. In section 10, in paragraph (b) introductory text, remove the words “(§ 457.8)”.

The revisions read as follows:

§ 457.121 Arizona-California citrus crop insurance provisions.

The Arizona-California Citrus Crop Insurance Provisions for the 2026 and succeeding crop years are as follows:

United States Department of Agriculture

Federal Crop Insurance Corporation

Arizona-California Citrus Crop Provisions

In return for your payment of premium and administrative fee for coverage, these Arizona-California Citrus Crop Provisions will be attached to and made part of the Common Crop Insurance Policy, Basic Provisions (Basic Provisions) subject to the terms and conditions in your policy.

* * * * *

2. Unit Division

(a) Optional units may be established by:

(1) Organic and non-organic farming practices as provided in section 34(c)(3) of the Basic Provisions;

(2) Non-contiguous land; or

(3) In addition to or instead of establishing optional units by non-contiguous land as provided in section 2(a)(2), optional units may be established by commodity type if allowed by the Special Provisions.

(b) Optional units by land location as provided in section 34(c)(1) of the Basic Provisions and by irrigation practice as provided in section 34(c)(2) of the Basic Provisions are not applicable.

3. Insurance Guarantees, Coverage Levels, and Prices

* * * * *

(d) We will reduce the approved yield, as necessary, based on our estimate of the effect of any circumstance listed in section 3(c) that may reduce your yields from previous levels. If you fail to notify us of any circumstance that may reduce your yields from previous levels, we will reduce your approved yield at any time we become aware of the circumstance. If the circumstance occurred:

(1) Before the beginning of the insurance period and you notify us by the production reporting date, the approved yield will be reduced for the current crop year regardless of whether the circumstance was due to an insured or uninsured cause of loss;

(2) After the beginning of the insurance period and you notify us by the production reporting date, the approved yield will be reduced for the current crop year only if the potential reduction in the approved yield is due to an uninsured cause of loss; or

(3) Before or after the beginning of the insurance period and you fail to notify us by the production reporting date, an amount equal to the reduction in the approved yield will be added to the production to count calculated in section 11(c)(1)(ii) due to uninsured causes. We will reduce your approved yield for the subsequent crop year to reflect any reduction in the productive capacity of the trees or in the yield potential of the insured acreage.

* * * * *

12. Amend § 457.122 as follows:

a. Revise the introductory text and the undesignated text at the beginning of the “Walnut Crop Provisions”;

b. In section 1, in the definitions of “Interplanted” and “Production guarantee (per acre)”, remove the word “contained”;

c. Revise section 2;

d. In section 3:

i. In the introductory text and paragraph (b) introductory text, remove the text “(§ 457.8)”;

ii. Revise paragraph (c);

e. In section 4, remove the words “dates are October 31 for California and August 31 preceding the cancellation date for all other states” and add “date is October 31” in their place;

f. In section 5, remove the words “for California and November 20 for all other states”;

g. In section 6:

i. In the introductory text, remove the text “(§ 457.8)”; and

ii. In paragraph (d), remove the words “provided in” and add “allowed by” in their place”;

h. In section 7, remove the text “(§ 457.8)”;

i. In section 8:

i. In paragraph (a)(1), remove the words “in California and November 21 in all other states” and “in California or after November 11 but prior to November 21 in all other states”;

ii. In paragraph (a)(3), remove the words “paragraph (a)(1) of this section” and add “section 8(a)(1)” in their place; and

iii. In paragraph (b) introductory text, remove the text “(§ 457.8)”;

j. In section 9, in paragraphs (a) introductory text and (b), remove the text “(§ 457.8)”; and

k. In section 11, revise paragraph (b)(7), the example paragraphs between paragraphs (b)(7) and (c), and paragraph (d).

The revisions read as follows:

§ 457.122 Walnut crop insurance provisions.

The Walnut Crop Insurance Provisions for the 2025 and succeeding crop years are as follows:

United States Department of Agriculture

Federal Crop Insurance Corporation

Walnut Crop Provisions

In return for your payment of premium and administrative fee for the coverage, these Walnut Crop Provisions will be attached to and made part of the Common Crop Insurance Policy, Basic Provisions (Basic Provisions) subject to the terms and conditions in your policy.

* * * * *

2. Unit Division

(a) Optional units may be established by:

(1) Organic and non-organic farming practices as provided in section 34(c)(3) of the Basic Provisions; or

(2) Non-contiguous land.

(b) Optional units by land location as provided in section 34(c)(1) of the Basic Provisions and by irrigation practice as provided in section 34(c)(2) of the Basic Provisions are not applicable.

* * * * *

3. Insurance Guarantees, Coverage Levels, and Prices

* * * * *

(c) We will reduce the approved yield, as necessary, based on our estimate of the effect of any circumstance listed in section 3(b) that may reduce your yields from previous levels. If you fail to notify us of any circumstance that may reduce your yields from previous levels, we will reduce your approved yield at any time we become aware of the circumstance. If the circumstance occurred:

(1) Before the beginning of the insurance period and you notify us by the production reporting date, the approved yield will be reduced for the current crop year regardless of whether the circumstance was due to an insured or uninsured cause of loss;

(2) After the beginning of the insurance period and you notify us by the production reporting date, the approved yield will be reduced for the current crop year only if the potential reduction in the approved yield is due to an uninsured cause of loss; or

(3) Before or after the beginning of the insurance period and you fail to notify us by the production reporting date, an amount equal to the reduction in the approved yield will be added to the production to count calculated in section 11(c)(1)(ii) due to uninsured causes. We will reduce the approved yield for the subsequent crop year to reflect any reduction in the productive capacity of the trees or in the yield potential of the insured acreage.

* * * * *

11. Settlement of Claim

* * * * *

(b) * * *

(7) Multiplying the result in section 11(b)(6) by your share.

Example for Section 11(b)

You have a 100 percent share in 100 acres of walnuts in the unit, with a guarantee of 2,500 pounds per acre and a price election of $0.70 per pound. You are only able to harvest 200,000 pounds. Your indemnity would be calculated as follows:

(1) 100 acres × 2,500 pounds = 250,000-pound insurance guarantee;

(2) 250,000 pounds × $0.70 price election = $175,000 total value of insurance guarantee;

(3) Not applicable;

(4) 200,000 pounds production to count × $0.70 price election = $140,000 total value of production to count;

(5) Not applicable;

(6) $175,000 total value guarantee−$140,000 total value of production to count = $35,000 loss; and

(7) $35,000 × 100 percent share = $35,000 indemnity payment.

End of Example.

* * * * *

(d) Mature walnut production damaged due to an insurable cause of loss which occurs within the insurance period may be adjusted by the quality adjustment factors contained in the Special Provisions.

* * * * *

13. Amend § 457.123 as follows:

a. Revise the introductory text and the undesignated text at the beginning of the “Almond Crop Provisions”;

b. In section 1, revise the definitions of “Interplanted” and “Production guarantee (per acre)”;

c. Revise section 2;

d. In section 3:

i. Revise the section heading;

ii. In the introductory text, remove the text “(§ 457.8)”;

iii. In paragraph (a), remove the words “Special Provisions provide” and add “actuarial documents provide” in their place;

iv. In paragraph (b) introductory text, remove the text “(§ 457.8)”;

v. Redesignate paragraph (c) as paragraph (d);

vi. Designate the undesignated paragraph following paragraph (b)(5) as paragraph (c); and

vii. Revise newly designated paragraph (c);

e. In sections 4 and 5, remove the text “(§ 457.8)”;

f. In section 6:

i. In the introductory text, remove the text “(§ 457.8)”; and

ii. Revise paragraph (e);

g. In section 7, remove the words “Provisions (§ 457.8), that” and add “Provisions that” in their place;

h. In section 8:

i. In paragraph (a) introductory text, remove the words “the provisions of” and “(§ 457.8)”;

ii. In paragraph (a)(3), remove the words “paragraph (a)(1) of this section” and add “section 8(a)(1)” in their place; and

iii. In paragraph (b) introductory text, remove the words “the provisions of section 11 (Insurance Period) of the Basic Provisions (§ 457.8)” and add “section 11 of the Basic Provisions” in their place;

i. In section 9:

i. In paragraph (a) introductory text, remove the words “the provisions of section 12 of the Basic Provisions (§ 457.8)” and add “section 12 of the Basic Provisions” in their place; and

ii. In paragraph (b), remove the words “section 12 (Causes of Loss) of the Basic Provisions (§ 457.8)” and add “section 12 of the Basic Provisions” in their place; and

j. In section 10, remove the text “(§ 457.8)”; and

k. In section 11, revise paragraph (b)(7) and the example paragraphs between paragraphs (b)(7) and (c).

The revisions read as follows:

§ 457.123 Almond crop insurance provisions.

The Almond Crop Insurance Provisions for the 2025 and succeeding crop years are as follows:

United States Department of Agriculture

Federal Crop Insurance Corporation

Almond Crop Provisions

In return for your payment of premium and administrative fee for the coverage, these Almond Crop Provisions will be attached to and made part of the Common Crop Insurance Policy, Basic Provisions (Basic Provisions) subject to the terms and conditions in your policy.

1. Definitions

* * * * *

Interplanted. In lieu of the definition in section 1 of the Basic Provisions, acreage on which two or more crops are planted in any form of alternating or mixed pattern.

* * * * *

Production guarantee (per acre). In addition to the definition in section 1 of the Basic Provisions, the number of pounds is total meat pounds per acre of almonds.

* * * * *

2. Unit Division

(a) Optional units may be established by:

(1) Organic farming practices as provided in section 34(c)(3) of the Basic Provisions; or

(2) Non-contiguous land.

(b) Optional units by land location as provided in section 34(c)(1) of the Basic Provisions and by irrigation practice as provided in section 34(c)(2) of the Basic Provisions are not applicable.

3. Insurance Guarantees, Coverage Levels, and Prices

* * * * *

(c) We will reduce the approved yield, as necessary, based on our estimate of the effect of any circumstance listed in section 3(b) that may reduce your yields from previous levels. If you fail to notify us of any circumstance that may reduce your yields from previous levels, we will reduce your approved yield at any time we become aware of the circumstance. If the circumstance occurred:

(1) Before the beginning of the insurance period and you notify us by the production reporting date, the approved yield will be reduced for the current crop year regardless of whether the circumstance was due to an insured or uninsured cause of loss;

(2) After the beginning of the insurance period and you notify us by the production reporting date, the approved yield will be reduced for the current crop year only if the potential reduction in the approved yield is due to an uninsured cause of loss; or

(3) Before or after the beginning of the insurance period and you fail to notify us by the production reporting date, an amount equal to the reduction in the approved yield will be added to the production to count calculated in section 11(c)(1)(ii) due to uninsured causes. We will reduce your approved yield for the subsequent crop year to reflect any reduction in the productive capacity of the trees or in the yield potential of the insured acreage.

* * * * *

6. Insured Crop

* * * * *

(e) On acreage where at least 90 percent of the trees have reached at least the 5th leaf year after being set out, unless otherwise allowed by the Special Provisions.

* * * * *

11. Settlement of Claim

* * * * *

(b) * * *

(7) Multiplying the result in section 11(b)(6) by your share.

Example for Section 11(b)

You have a 100 percent share in 100 acres of almonds in the unit, with a guarantee of 1,200 pounds per acre and a price election of $1.30 per pound. You are only able to harvest 100,000 pounds. Your indemnity would be calculated as follows:

(1) 100 acres × 1,200 pounds = 120,000 pound insurance guarantee;

(2) 120,000 pounds × $1.30 price election = $156,000 total value of insurance guarantee;

(3) Not applicable;

(4) 100,000 pounds production to count × $1.30 price election = $130,000 total value of production to count;

(5) Not applicable;

(6) $156,000 total of value guarantee−$130,000 total value of production to count = $26,000 loss; and

(7) $26,000 × 100 percent share = $26,000 indemnity payment.

End of Example.

* * * * *

14. Amend § 457.131 as follows:

a. Revise the introductory text and the undesignated text at the beginning of the “Macadamia Nut Crop Provisions”;

b. In section 1:

i. In the definition of “Age”, remove the word “thereof” and add “of a unit” in its place;

ii. Remove the definition of “Crop year”;

iii. In the definition of “Interplanted”, remove the word “contained”; and

iv. Revise the definition of “Production guarantee (per acre)”;

c. Revise section 2;

d. In section 3:

i. In the introductory text and paragraph (b) introductory text, remove the text “(§ 457.8)”;

ii. Redesignate paragraphs (c) and (d) as paragraphs (d) and (e), respectively;

iii. Designate the undesignated paragraph following paragraph (b)(4)(iii) as paragraph (c); and

iv. Revise newly designated paragraph (c); and

v. In newly redesignated paragraph (e), remove the year “2023” and add “2024” in its place, and remove the year “2025” and add “2026” in its place;

e. In sections 4 and 5, remove the text “(§ 457.8)”;

f. In section 6, in the introductory text, remove the text “(§ 457.8)”;

g. In section 7, remove the text “(§ 457.8)”;

h. In section 8, in paragraphs (a) introductory text and (b) introductory text, remove the words “the provisions of section 11 of the Basic Provisions (§ 457.8)” and add “section 11 of the Basic Provisions” in their place;

i. In section 9:

i. In paragraph (a) introductory text, remove the words “the provisions of section 12 of the Basic Provisions (§ 457.8)” and add “section 12 of the Basic Provisions” in their place; and

ii. In paragraph (b) introductory text, remove the text “(§ 457.8)”;

j. In section 10, in the introductory text, remove the text “(§ 457.8)”; and

k. In section 11, revise paragraph (b)(7) and the example paragraphs between paragraphs (b)(7) and (c).

The revisions read as follows:

§ 457.131 Macadamia nut crop insurance provisions.

The Macadamia Nut Crop Insurance Provisions for the 2026 and succeeding crop years are as follows:

United States Department of Agriculture

Federal Crop Insurance Corporation

Macadamia Nut Crop Provisions

In return for your payment of premium and administrative fee for the coverage, these Macadamia Nut Crop Provisions will be attached to and made part of the Common Crop Insurance Policy, Basic Provisions (Basic Provisions) subject to the terms and conditions in your policy.

1. Definitions

* * * * *

Production guarantee (per acre). In addition to the definition in section 1 of the Basic Provisions, the number of pounds is wet, in-shell macadamia nuts.

* * * * *

2. Unit Division

(a) Optional units may be established by:

(1) Organic and non-organic farming practices as provided in section 34(c)(3) of the Basic Provisions; or

(2) Non-contiguous land.

(b) Optional units by land location as provided in section 34(c)(1) of the Basic Provisions and by irrigation practice as provided in section 34(c)(2) of the Basic Provisions are not applicable.

3. Insurance Guarantees, Coverage Levels, and Prices

* * * * *

(c) We will reduce the approved yield, as necessary, based on our estimate of the effect of any circumstance listed in section 3(b) that may reduce your yields from previous levels. If you fail to notify us of any circumstance that may reduce your yields from previous levels, we will reduce your approved yield at any time we become aware of the circumstance. If the circumstance occurred:

(1) Before the beginning of the insurance period and you notify us by the production reporting date, the approved yield will be reduced for the current crop year regardless of whether the circumstance was due to an insured or uninsured cause of loss;

(2) After the beginning of the insurance period and you notify us by the production reporting date, the approved yield will be reduced for the current crop year only if the potential reduction in the approved yield is due to an uninsured cause of loss; or

(3) Before or after the beginning of the insurance period and you fail to notify us by the production reporting date, an amount equal to the reduction in the approved yield will be added to the production to count calculated in section 11(c)(1)(ii) due to uninsured causes. We will reduce your approved yield for the subsequent crop year to reflect any reduction in the productive capacity of the trees or in the yield potential of the insured acreage.

* * * * *

11. Settlement of Claim

* * * * *

(b) * * *

(7) Multiplying the result in section 11(b)(6) by your share.

Example for Section 11(b)

You select the 65 percent coverage level and 100 percent of the price election on 10 acres of macadamia nuts in the unit. Your share is 100 percent. Your production guarantee (per acre) is 4,000 pounds. The price election is $1.00. You are able to harvest 25,000 pounds. Your indemnity would be calculated as follows:

(1) 10 acres × 4,000 pounds = 40,000 pounds guarantee;

(2) 40,000 pounds × $1.00 price election = $40,000 total value of guarantee;

(3) Not applicable;

(4) 25,000 pounds production to count × $1.00 price election = $25,000 value of production to count;

(5) Not applicable;

(6) $40,000 total value of guarantee− $25,000 value of production to count = $15,000 loss; and

(7) $15,000 loss × 100 percent share = $15,000 indemnity payment.

End of Example.

* * * * *

15. Amend § 457.133 as follows:

a. Revise the introductory text and the undesignated text at the beginning of the “Prune Crop Provisions”;

b. In section 1:

i. In the definition of “Interplanted”, remove the word “contained”;

ii. In the definition of “Prunes”, remove the words “Federal Marketing Agreement Dried Prune Order” and add “Marketing Order for California Prunes” in their place; and

iii. In the definition of “Standard prunes”, in paragraph (b), remove the words “Federal Marketing Agreement Dried Prune Order” and add “Marketing Order for California Prunes” in their place;

c. Revise section 2;

d. In section 3, revise paragraph (c);

e. In section 8:

i. In paragraph (a) introductory text, remove the words “the provisions of”;

ii. Revise paragraph (a)(2); and

iii. In paragraph (b) introductory text, remove the words “the provisions of”;

f. In section 9, in paragraph (a), remove the words “the provisions of”; and

g. In section 11, revise paragraph (b)(7) and examples 1 and 2 between paragraphs (b)(7) and (c).

The revisions read as follows:

§ 457.133 Prune Crop Insurance Provisions.

The Prune Crop Insurance Provisions for the 2025 and succeeding crop years are as follows:

United States Department of Agriculture

Federal Crop Insurance Corporation

Prune Crop Provisions

In return for your payment of premium and administrative fee for the coverage, these Prune Crop Provisions will be attached to and made part of the Common Crop Insurance Policy, Basic Provisions (Basic Provisions) subject to the terms and conditions in your policy.

* * * * *

2. Unit Division

(a) Optional units may be established by:

(1) Land location as provided in section 34(c)(1) of the Basic Provisions;

(2) Organic or non-organic farming practices as provided in section 34(c)(3) of the Basic Provisions;

(3) Combination of land location and organic farming practices as provided in section 34(c)(4) of the Basic Provisions; or

(4) Non-contiguous land.

(b) Optional units by irrigation practice as provided in section 34(c)(2) of the Basic Provisions are not applicable.

3. Insurance Guarantees, Coverage Levels, and Prices

* * * * *

(c) We will reduce the approved yield, as necessary, based on our estimate of the effect of any circumstance listed in section 3(b) that may reduce your yields from previous levels. If you fail to notify us of any circumstance that may reduce your yields from previous levels, we will reduce your approved yield at any time we become aware of the circumstance. If the circumstance occurred:

(1) Before the beginning of the insurance period and you notify us by the production reporting date, the approved yield will be reduced for the current crop year regardless of whether the circumstance was due to an insured or uninsured cause of loss;

(2) After the beginning of the insurance period and you notify us by the production reporting date, the approved yield will be reduced for the current crop year only if the potential reduction in the approved yield is due to an uninsured cause of loss; or

(3) Before or after the beginning of the insurance period and you fail to notify us by the production reporting date, an amount equal to the reduction in the approved yield will be added to the production to count calculated in section 11(c)(1)(ii) due to uninsured causes. We will reduce your approved yield for the subsequent crop year to reflect any reduction in the productive capacity of the trees or in the yield potential of the insured acreage.

* * * * *

8. Insurance Period

(a) * * *

(2) The calendar date for the end of the insurance period for each crop year is October 1.

* * * * *

11. Settlement of Claim

* * * * *

(b) * * *

(7) Multiplying the result of section 11(b)(6) by your share.

Examples for Section 11(b)

Example 1:

You select 75 percent coverage level, 100 percent of the price election, and have a 100 percent share in 50.0 acres of type 1 prunes in the unit. The approved yield is 2.5 tons per acre and your price election is $1,000 per ton. You harvest 10.0 tons. Your indemnity would be calculated as follows:

(1) 50.0 acres × 2.5 tons × 0.75 = 93.75-ton production guarantee;

(2) 93.75-ton guarantee × $1,000 price election = $93,750 value of production guarantee;

(3) Not applicable;

(4) 10.0 tons × $1,000 price election = $10,000 value of production to count;

(5) Not applicable;

(6) $93,750− $10,000 = $83,750 loss; and

(7) $83,750 × 1.000 share = $83,750 indemnity payment.

Example 2:

In addition to the information in the first example, you have an additional 50.0 acres of type 2 prunes with 100 percent share in the same unit. The approved yield is 2.0 tons per acre and the price election is $900 per ton. You harvest 5.0 tons. Your total indemnity for both types 1 and 2 would be calculated as follows:

(1) 50.0 acres × 2.5 tons × 0.75 = 93.75-ton production guarantee for type 1 and 50.0 acres × 2.0 tons × 0.75 = 75.0-ton production guarantee for type 2;

(2) 93.75-ton guarantee × $1,000 price election = $93,750 value of production guarantee for type 1 and 75.0-ton guarantee × $900 price election = $67,500 value production guarantee for type 2;

(3) $93,750 + $67,500 = $ 161,250 total value of production guarantee;

(4) 10.0 tons × $1,000 price election = $10,000 value of production to count for type 1 and 5.0 tons × $900 price election = $4,500 value of production to count for type 2;

(5) $10,000 + $4,500 = $14,500 total value of production to count;

(6) $161,250− $14,500 = $146,750 loss; and

(7) $146,750 loss × 1.000 share = $146,750 indemnity payment.

End of Examples.

* * * * *

16. Amend § 457.140 as follows:

a. Revise the introductory text and the undesignated text at the beginning of the “Dry Pea Crop Provisions”;

b. In section 2:

i. Revise the section heading and paragraph (a) introductory text;

ii. In paragraph (a)(2), remove the words “section 34(a)(4)” and add “section 34(a)(2)” in their place;

iii. In paragraph (a)(3)(i)(A), remove the words “section 34(a)(4)” and add “section 34(a)(2) of the Basic Provisions” in their place, and remove the words “insured as enterprise unit” and add “insured as an enterprise unit” in their place; and

iv. In paragraphs (a)(3)(i)(B) and (a)(3)(ii), remove the words “section 34(a)(4)” and add “section 34(a)(2) of the Basic Provisions” in their place;

c. In section 3, revise the section heading;

d. In section 5, revise the table;

e. In section 8, in paragraph (e)(2), remove the words “such acreage” and add “such fall-planted acreage” in their place; and

f. In section 13, revise paragraph (b)(13) and examples 1 and 2 between paragraphs (b)(13) and (c).

The revisions read as follows:

§ 457.140 Dry pea crop insurance provisions.

The Dry Pea Crop Insurance Provisions for the 2025 and succeeding crop years are as follows:

United States Department of Agriculture

Federal Crop Insurance Corporation

Dry Pea Crop Provisions

In return for your payment of premium and administrative fee for the coverage, these Dry Pea Crop Provisions will be attached to and made part of the Common Crop Insurance Policy, Basic Provisions (Basic Provisions) subject to the terms and conditions in your policy.

* * * * *

2. Unit Division

(a) In addition to enterprise units provided in section 34(a)(2) of the Basic Provisions, you may elect separate enterprise units by type, as provided in this section, if allowed by the actuarial documents. If you elect enterprise units by type, you may not elect enterprise or optional units by any other practice or type.

* * * * *

3. Insurance Guarantees, Coverage Levels, and Prices

* * * * *

5. Cancellation and Termination Dates

* * * * *

State and county | Cancellation and termination dates
All counties in California and Arizona Counties: La Paz, Maricopa, Mohave, Pima, Pinal, and Yuma | October 31.
All other Arizona counties and all other states | March 15.

* * * * *

13. Settlement of Claim

* * * * *

(b) * * *

(13) Multiplying the result of section 13(b)(12) by your share.

Examples for Section 13(b)

Example 1:

In this example, you have not elected optional units by type. You have a 100 percent share in 100 acres of spring-planted smooth green dry edible peas in the unit, with a production guarantee of 4,000 pounds per acre and a price election of $0.15 per pound. Your selected price election percentage is 100 percent. You are only able to harvest 200,000 pounds. Your indemnity would be calculated as follows:

(1) 100 acres × 4,000 pounds = 400,000-pound guarantee;

(2) 400,000-pound guarantee × $0.12 price election = $48,000 value of guarantee;

(3) Not applicable;

(4) Not applicable;

(5) Not applicable;

(6) Not applicable;

(7) Not applicable;

(8) Not applicable;

(9) 200,000-pound production to count × $0.12 price election = $24,000 value of production to count;

(10) Not applicable;

(11) Not applicable;

(12) $48,000 value of guarantee−$24,000 value of production to count = $24,000 loss; and

(13) $24,000 × 100 percent share = $24,000 indemnity payment.

Example 2:

Assume the same facts in example 1. Also assume you have a 100 percent share in 100 acres of contract seed types in the same unit, with a production guarantee of 5,000 pounds per acre and a base contract price of $0.40 per pound. Your selected price election percentage is 100 percent. You are only able to harvest 450,000 pounds. Your total indemnity for both spring-planted smooth green dry edible peas and contract seed types would be calculated as follows:

(1) 100 acres × 4,000 pounds = 400,000-pound guarantee for the spring-planted smooth green dry edible pea type;

(2) 400,000-pound guarantee × $0.12 price election = $48,000 value of guarantee for the spring-planted smooth green dry edible pea type;

(3) $48,000 (only one spring-planted smooth green dry edible pea type; no other types in this example to total);

(4) 100 acres × 5,000 pounds = 500,000-pound guarantee for the contract seed type;

(5) 500,000-pound guarantee × $0.40 base contract price = $200,000 gross value of guarantee for the contract seed type;

(6) $200,000 × 1.00 price election percentage = $200,000 value of guarantee for the contract seed type;

(7) $200,000 (only one contract seed type; no other types in this example to total);

(8) $48,000 + $200,000 = $248,000 total value of guarantee;

(9) 200,000-pound production to count × $0.12 price election = $24,000 value of production to count for the spring-planted smooth green dry edible pea type;

(10) 450,000-pound production to count × $0.40 = $180,000 value of production to count for the contract seed type;

(11) $24,000 + $180,000 = $204,000 total value of production to count;

(12) $248,000−$204,000 = $44,000 loss; and

(13) $44,000 loss × 100 percent share = $44,000 indemnity payment.

End of Examples.

* * * * *

17. Amend § 457.142 as follows:

a. Revise the introductory text and the undesignated text at the beginning of the “Northern Potato Crop Provisions”;

b. In section 1, in the definition of “Grade inspection”, remove the words “deficiencies will be: For potatoes” and add “deficiencies will be: for potatoes” in their place;

c. In section 2:

i. Revise the section heading; and

ii. In paragraph (a), remove the words “Special Provisions” wherever they appear and add “actuarial documents” in their place each time;

d. In section 6, in paragraph (d) introductory text, remove the words “Special Provision” and add “Special Provisions” in their place;

e. In section 7, in the introductory text, remove the words “the provisions of”;

f. In section 8:

i. In the introductory text, remove the words “the provisions of”; and

ii. In paragraph (a), remove the words “October 1, in” and add the words “October 1 in” in their place;

g. In section 9, in paragraph (a) introductory text, remove the words “the provisions of”; and

h. In section 11:

i. In paragraph (b)(1), remove the words “guarantee (If” and add the words “guarantee (if” in their place;

ii. Revise paragraph (b)(2);

iii. In paragraph (e)(2), remove the words “end of the insurance period and quality (grade) determinations must be completed with 21 days of sampling)” and add “end of insurance period and quality (grade) determinations must be completed within 21 days of sampling” in their place;

iv. In paragraph (g)(1)(i), remove the words “Special Provisions or addendum thereto” and add ” actuarial documents” in their place; and

v. In paragraph (g)(2) introductory text, remove the words “Northern Storage Coverage Endorsement” and add “Northern Potato Storage Coverage Endorsement” in their place.

The revisions read as follows:

§ 457.142 Northern potato crop insurance provisions.

The Northern Potato Crop Insurance Provisions for the 2025 and succeeding crop years in counties with a contract change date of June 30, September 30, and November 30, and for the 2026 and succeeding crop years in counties with a contract change date of April 30, are as follows:

United States Department of Agriculture

Federal Crop Insurance Corporation

Northern Potato Crop Provisions

In return for your payment of premium and administrative fee for the coverage, these Northern Potato Crop Provisions will be attached to and made part of the Common Crop Insurance Policy, Basic Provisions (Basic Provisions) subject to the terms and conditions in your policy.

These provisions will be applicable in: Alaska; Humboldt, Modoc, and Siskiyou Counties, California; Colorado; Connecticut; Idaho; Indiana; Iowa; Kansas; Maine; Massachusetts; Michigan; Minnesota; Montana; Nebraska; Nevada; San Juan County, New Mexico; New York; North Dakota; Ohio; Oregon; Pennsylvania; Rhode Island; South Dakota; Utah; Washington; Wisconsin; and Wyoming; and any other states or counties if allowed by the Special Provisions.

* * * * *

2. Insurance Guarantees, Coverage Levels, and Prices

* * * * *

11. Settlement of Claim

* * * * *

(b) * * *

(2) Multiplying each result in section 11(b)(1) by the respective price election (the price election may be limited as specified in section 2);

* * * * *

18. Amend § 457.147 as follows:

a. Revise the introductory text and the undesignated text at the beginning of the “Central and Southern Potato Crop Provisions”;

b. In section 1, in the definition of “Grade inspection”, remove the words “deficiencies will be: For potatoes” and add “deficiencies will be: for potatoes” in their place;

c. In section 3:

i. Revise the section heading; and

ii. In paragraph (a), remove the words “section 2” and add “section 3” in their place and remove the words “Special Provisions” wherever they appear and add “actuarial documents” in their place each time;

d. In section 5, revise the column headings in the table;

e. In section 8 introductory text and section 9 introductory text, remove the words “the provisions of”;

f. In section 10, in paragraph (a) introductory text, remove the words “the provisions of”; and

g. In section 12:

i. In paragraph (b)(2), remove the words “section 3.)” and add “section 3)” in their place; and

ii. In paragraph (d)(1)(iv), remove the words “sections 12(e)” and add the words “section 12(e)” in their place.

The revisions read as follows:

§ 457.147 Central and Southern potato crop insurance provisions.

The Central and Southern Potato Crop Insurance Provisions for the 2025 and succeeding crop years in counties with a contract change date of June 30, September 30, and November 30, and for the 2026 and succeeding crop years in counties with a contract change date of April 30, are as follows:

United States Department of Agriculture

Federal Crop Insurance Corporation

Central and Southern Potato Crop Provisions

In return for your payment of premium and administrative fee for the coverage, these Central and Southern Potato Crop Provisions will be attached to and made part of the Common Crop Insurance Policy, Basic Provisions (Basic Provisions) subject to the terms and conditions in your policy.

These provisions will be applicable in Alabama; Arizona; all California counties except Humboldt, Modoc, and Siskiyou; Delaware; Florida; Georgia; Maryland; Missouri; New Jersey; all New Mexico counties except San Juan; North Carolina; Oklahoma; Texas; and Virginia; and other states or counties if allowed by the Special Provisions.

* * * * *

3. Insurance Guarantees, Coverage Levels, and Prices

* * * * *

5. Cancellation and Termination Dates

* * * * *

State and county | Cancellation and termination dates
* * * * * * *

* * * * *

19. Amend § 457.150 as follows:

a. Revise the introductory text and the undesignated text at the beginning of the “Dry Bean Crop Provisions”;

b. In section 1, in the definition of “Practical to replant”, remove the text “(§ 457.8)”;

c. In section 2:

i. Revise the section heading;

ii. In paragraph (a), remove the words “production based” and add the words “production-based” in their place and remove the words “acreage based” and add the words “acreage-based” in their place;

iii. Revise paragraph (b) introductory text;

iv. In paragraph (b)(2), remove the words “section 34(a)(4)” and add “section 34(a)(2)” in their place;

v. In paragraphs (b)(3)(i)(A) and (B) and (b)(3)(ii), remove the words “section 34(a)(4)” and add “section 34(a)(2) of the Basic Provisions” in their place; and

vi. In paragraph (c), remove the words “section 34(c) in the Basic Provisions” and add “section 34(c) of the Basic Provisions” in their place;

d. In section 3:

i. Revise the section heading; and

ii. In paragraph (a), remove the text “(§ 457.8)” and remove the words “Special Provisions” and add “actuarial documents” in their place;

e. Revise section 5;

f. In sections 6, remove the text “(§ 457.8)”;

g. In section 7, in paragraph (a) introductory text, remove the text “(§ 457.8)”;

h. In section 8 introductory text, section 9 introductory text, and section 10 introductory text, remove the text “(§ 457.8)”;

i. In section 11, in paragraphs (a) and (d), remove the text “(§ 457.8)”;

j. In section 12, remove the text “(§ 457.8)”; and

k. In section 13, in paragraph (e)(4) introductory text, remove the words “sections 13(e) (2) and (3)” and add “sections 13(e)(2) and (3)” in their place.

The revisions read as follows:

§ 457.150 Dry bean crop insurance provisions.

The Dry Bean Crop Insurance Provisions for the 2025 and succeeding crop years are as follows:

United States Department of Agriculture

Federal Crop Insurance Corporation

Dry Bean Crop Provisions

In return for your payment of premium and administrative fee for the coverage, these Dry Bean Crop Provisions will be attached to and made part of the Common Crop Insurance Policy, Basic Provisions (Basic Provisions) subject to the terms and conditions in your policy.

* * * * *

2. Unit Division

* * * * *

(b) In addition to enterprise units provided in section 34(a)(2) of the Basic Provisions, you may elect separate enterprise units by type, as provided in this section, if allowed by the actuarial documents. If you elect enterprise units by type, you may not elect enterprise or optional units by any other practice or type.

* * * * *

3. Insurance Guarantees, Coverage Levels, and Prices

* * * * *

5. Cancellation and Termination Dates

In accordance with section 2 of the Basic Provisions, the cancellation and termination dates are:

State and county | Cancellation and termination dates
California | February 28.
All other States | March 15.

* * * * *

20. Amend § 457.155 as follows:

a. Revise the introductory text and the undesignated text at the beginning of the “Processing Bean Crop Provisions”;

b. In section 1, revise the definition of “Good farming practices”;

c. In section 2, revise paragraphs (a)(2) and (b);

d. In section 3, revise the section heading;

e. In section 9, revise paragraph (d); and

f. In section 12, revise paragraph (b)(7) and the example paragraphs between paragraphs (b)(7) and (c).

The revisions read as follows:

§ 457.155 Processing bean crop insurance provisions.

The Processing Bean Crop Insurance Provisions for the 2025 and succeeding crop years are as follows:

United States Department of Agriculture

Federal Crop Insurance Corporation

Processing Bean Crop Provisions

In return for your payment of premium and administrative fee for the coverage, these Processing Bean Crop Provisions will be attached to and made part of the Common Crop Insurance Policy, Basic Provisions (Basic Provisions) subject to the terms and conditions in your policy.

1. Definitions

* * * * *

Good farming practices. In addition to the definition contained in the Basic Provisions, good farming practices include those practices required by the processor contract.

* * * * *

2. Unit Division

* * * * *

(a) * * *

(2) Optional units as provided in section 34(c) of the Basic Provisions are not applicable.

(b) For any processor contract that stipulates the number of acres to be planted, in addition to, or instead of, establishing optional units as provided in section 34(c) of the Basic Provisions, optional units may be established by type if acreage of one type does not continue into acreage of another type in the same rows or planting pattern.

3. Insurance Guarantees, Coverage Levels, and Prices

* * * * *

9. Insurance Period

* * * * *

(d) The calendar date for the end of the insurance period shown in the Special Provisions, unless otherwise modified by written agreement.

* * * * *

12. Settlement of Claim

* * * * *

(b) * * *

(7) Multiplying the result of section 12(b)(6) by your share.

Example for Section 12(b)

You have a 100 percent share in 100 acres of snap type processing beans in the unit, with a guarantee of 3.0 tons per acre and a price election of $210.00 per ton. You are only able to harvest 200 tons. Your indemnity would be calculated as follows:

(1) 100 acres × 3.0 tons = 300 tons guarantee;

(2) 300 tons × $210.00 price election = $63,000.00 value of guarantee;

(3) 200 tons × $210.00 price election = $42,000.00 value of production to count;

(4) $63,000.00−$42,000.00 = $21,000.00 loss; and

(5) $21,000.00 × 100 percent = $21,000.00 indemnity payment.

You also have a 100 percent share in 100 acres of lima type processing beans in the same unit, with a guarantee of 1.0 ton per acre and a price election of $525.00 per ton. You are only able to harvest 75 tons. Your total indemnity for both snap and lima types processing beans would be calculated as follows:

(1) 100 acres × 3.0 tons = 300 tons guarantee for the snap type, and 100 acres × 1.0 ton = 100 tons guarantee for the lima type;

(2) 300 tons × $210.00 price election = $63,000.00 value of guarantee for the snap type, and 100 tons × $525.00 price election = $52,500.00 value of guarantee for the lima type;

(3) $63,000.00 + $52,500.00 = $115,500.00 total value of guarantee;

(4) 200 tons × $210.00 price election = $42,000.00 value of production to count for the snap type, and 75 tons × $525.00 price election = $39,375.00 value of production to count for the lima type;

(5) $42,000.00 + $39,375.00 = $81,375.00 total value of production to count;

(6) $115,500.00−$81,375.00 = $33,625.00 loss; and

(7) $33,625.00 loss × 100 percent = $33,625.00 indemnity payment.

End of Example.

* * * * *

21. Amend § 457.161 as follows:

a. Revise the introductory text and the undesignated text at the beginning of the “Canola and Rapeseed Crop Provisions”;

b. Revise section 2;

c. In section 3, revise the section heading;

d. In section 5, revise the section heading and the table;

e. In section 7, in the introductory text, remove the words “the provisions of”;

f. Revise section 8;

g. In section 9, in the introductory text, remove the words “the provisions of”;

h. In section 12, revise paragraph (b)(6) and the example paragraphs between paragraphs (b)(6) and (c); and

i. In section 14, remove the period at the end of the section heading.

The revisions read as follows:

§ 457.161 Canola and rapeseed crop insurance provisions.

The Canola and Rapeseed Crop Insurance Provisions for the 2025 and succeeding crop years are as follows:

United States Department of Agriculture

Federal Crop Insurance Corporation

Canola and Rapeseed Crop Provisions

In return for your payment of premium and administrative fee for the coverage, these Canola and Rapeseed Crop Provisions and corresponding Commodity Exchange Price Provisions will be attached to and made part of the Common Crop Insurance Policy, Basic Provisions (Basic Provisions) subject to the terms and conditions in your policy.

* * * * *

2. Unit Division

In addition to section 34(c) of the Basic Provisions, optional units may be established by type if the type is designated in the Special Provisions.

3. Insurance Guarantees, Coverage Levels, and Prices

* * * * *

5. Cancellation and Termination Dates

* * * * *

State and county | Cancellation date | Termination date
(a) All counties in Alabama and Georgia | September 30 | September 30.
(b) Blaine, Bonneville, Fremont, Jefferson, Madison, and Teton counties in Idaho; and all counties in Minnesota, Montana, North Dakota, and South Dakota | March 15 | March 15.
(c) All counties in Illinois, Indiana, Kansas, Kentucky, Michigan, North Carolina, Oklahoma, South Carolina, Tennessee, Texas, and Virginia | August 31 | August 31.
(d) All other Idaho counties, Oregon, and Washington | August 31 | October 31.

* * * * *

8. Insurance Period

In accordance with section 11 of the Basic Provisions, the calendar date for the end of the insurance period is October 31 of the calendar year in which the crop is normally harvested, unless otherwise specified in the Special Provisions.

* * * * *

12. Settlement of Claim

* * * * *

(b) * * *

(6) Multiplying the result of section 12(b)(5) by your share.

Example for Section 12(b)

You have 100 percent share in 50 acres of canola in the unit with a production guarantee (per acre) of 1,350 pounds, your projected price is $.26, your harvest price is $.24, and your production to count is 51,000 pounds.

If you elected yield protection:

(1) 50 acres × (1,350 pound production guarantee × $.26 projected price) = $17,550.00 value of the production guarantee;

(2) Not applicable;

(3) 51,000 pound production to count × $.26 projected price = $13,260.00 value of the production to count;

(4) Not applicable;

(5) $17,550.00−$13,260.00 = $4,290.00; and

(6) $4,290.00 × 1.000 share = $4,290.00 indemnity; or

If you elected revenue protection:

(1) 50 acres × (1,350 pound production guarantee × $.26 projected price) = $17,550.00 revenue protection guarantee;

(2) Not applicable;

(3) 51,000 pound production to count × $.24 harvest price = $12,240.00 value of the production to count;

(4) Not applicable;

(5) $17,550.00−$12,240.00 = $5,310.00; and

(6) $5,310.00 × 1.000 share = $5,310.00 indemnity.

End of Example.

* * * * *

22. Amend § 457.166 as follows:

a. Revise the introductory text and the undesignated text at the beginning of the “Blueberry Crop Insurance Provisions”;

b. In section 1, revise the definition for “Production guarantee (per acre)”;

c. In section 3, revise paragraph (c);

d. In section 7, in paragraphs (a) introductory text and (b) introductory text, remove the words “the provisions of”;

e. In section 8, in paragraph (a) introductory text, remove the words “the provisions of”; and

f. In section 10:

i. Revise paragraph (b)(7) and the example for section 10(b); and

ii. In paragraph (d)(2)(i), remove the words “Special Provisions” and add “actuarial documents” in their place.

The revisions read as follows:

§ 457.166 Blueberry crop insurance provisions.

The Blueberry Crop Insurance Provisions for the 2025 and succeeding crop years are as follows:

United States Department of Agriculture

Federal Crop Insurance Corporation

Blueberry Crop Provisions

In return for your payment of premium and administrative fee for the coverage, these Blueberry Crop Provisions will be attached to and made part of the Common Crop Insurance Policy, Basic Provisions (Basic Provisions) subject to the terms and conditions in your policy.

* * * * *

1. Definitions

* * * * *

Production guarantee (per acre). In accordance with the definition in the Basic Provisions, the production guarantee is number of pounds.

* * * * *

3. Insurance Guarantees, Coverage Levels, and Prices

* * * * *

(c) We will reduce the approved yield, as necessary, based on our estimate of the effect of any circumstance listed in section 3(b) that may reduce your yields from previous levels. If you fail to notify us of any circumstance that may reduce your yields from previous levels, we will reduce your approved yield at any time we become aware of the circumstance. If the circumstance occurred:

(1) Before the beginning of the insurance period and you notify us by the production reporting date, the approved yield will be reduced for the current crop year regardless of whether the circumstance was due to an insured or uninsured cause of loss;

(2) After the beginning of the insurance period and you notify us by the production reporting date, the approved yield will be reduced for the current crop year only if the potential reduction in the approved yield is due to an uninsured cause of loss; or

(3) Before or after the beginning of the insurance period and you fail to notify us by the production reporting date, an amount equal to the reduction in the approved yield will be added to the production to count calculated in section 10(c)(1)(ii) due to uninsured causes. We will reduce your approved yield for the subsequent crop year to reflect any reduction in the productive capacity of the bushes or in the yield potential of the insured acreage.

* * * * *

10. Settlement of Claim

* * * * *

(b) * * *

(7) Multiplying the result in section 10(b)(6) by your share.

Example for Section 10(b)

You have 100 percent share in 25 acres of highbush blueberries with a production guarantee of 4,000 pounds per acre and a price election of $0.85 per pound. You are only able to harvest 62,500 total pounds because adverse weather reduced the yield. Your indemnity would be calculated as follows:

(1) 25 acres × 4,000-pound production guarantee per acre = 100,000-pound total production guarantee;

(2) 100,000 pounds × $0.85 price election = $85,000 guarantee;

(3) Not applicable;

(4) 62,500-pound production to count × $0.85 price election = $53,125 value of production to count;

(5) Not applicable;

(6) $85,000−$53,125 = $31,875 loss; and

(7) $31,875 × 100 percent share = $31,875 indemnity payment.

End of Example.

* * * * *

23. Amend § 457.167 as follows:

a. Revise the introductory text and the undesignated text at the beginning of the “Pecan Revenue Crop Provisions”

b. In section 1:

i. Revise the definitions of “Crop year” and “Direct marketing”;

ii. In the definition of “Interplanted”, remove the word “contained”;

c. In section 2:

i. In paragraph (a), remove the words “section 34(a)(4)” and add “section 34(a)(2)” in their place; and

ii. In paragraph (c) introductory text, remove the word “contained”;

d. In section 4:

i. In the introductory text, remove the words “the provisions contained in”; and

ii. In paragraph (b), remove the word “herein” and add “in your policy” in its place;

e. In section 6, revise paragraph (c);

f. In section 10, in paragraphs (a) introductory text and (b) introductory text, remove the words “the provisions of”;

g. In the section 13, revise the Pecan Revenue Example; and

h. In section 16, remove the words “the provisions of”.

The revisions read as follows:

§ 457.167 Pecan revenue crop insurance provisions.

The Pecan Revenue Crop Insurance Provisions for the 2025 and succeeding crop years are as follows:

United States Department of Agriculture

Federal Crop Insurance Corporation

Pecan Revenue Crop Provisions

In return for your payment of premium and administrative fee for the coverage, these Pecan Revenue Crop Provisions will be attached to and made part of the Common Crop Insurance Policy, Basic Provisions (Basic Provisions) subject to the terms and conditions in your policy.

1. Definitions

* * * * *

Crop year. In lieu of the definition in section 1 of the Basic Provisions, the period beginning February 1 of the calendar year in which the pecan trees bloom and extending through January 31 of the year following such bloom, and will be designated by the calendar year in which the pecan trees bloom.

Direct marketing. In addition to the definition in section 1 of the Basic Provisions, the sale of the insured crop directly to consumers without the intervention of an intermediary, including a sheller. An additional example of direct marketing includes shelling and packing your own pecans.

* * * * *

6. Report of Acreage

* * * * *

(c) We will reduce your insured acreage or your amount of insurance per acre, as necessary, based on our estimate of the effect of any circumstance listed in sections 6(a) and (b) that may reduce your gross sales from previous levels. If you fail to notify us of any circumstance that may reduce your gross sales from previous levels, we will reduce your insured acreage or your amount of insurance per acre at any time we become aware of the circumstance. If the circumstance occurred:

(1) Before the beginning of the insurance period and you notify us by the acreage reporting date, your insured acreage or amount of insurance per acre will be reduced for the current crop year regardless of whether the circumstance was due to an insured or uninsured cause of loss;

(2) After the beginning of the insurance period and you notify us by the acreage reporting date, your insured acreage or amount of insurance per acre will be reduced for the current crop year only if the potential reduction in your gross sales is due to an uninsured cause of loss; or

(3) Before or after the beginning of the insurance period and you fail to notify us by the acreage reporting date, an amount equal to the reduction in your gross sales will be added to the production to count calculated in section 13(d)(1)(ii) due to uninsured causes. We will reduce your insured acreage or amount of insurance per acre for the subsequent crop year to reflect any reduction in the productive capacity of the trees or in the gross sales potential of the insured acreage.

* * * * *

13. Settlement of Claim

* * * * *

Pecan Revenue Example
Year | Acres | Average pounds per acre | Average gross sales per acre
4 | 100 | 750 | $1,050
3 | 100 | 625 | 625
2 | 100 | 1,250 | 750
1 | 100 | 200 | 250

Total Average Gross Sales per Acre = $2,675.

The approved average revenue equals the total average gross sales per acre divided by the number of years ($2,675 ÷ 4 = $669).

The amount of insurance per acre equals the approved average revenue multiplied by the coverage level percent ($669 × 0.65 = $435).

Assume pecan trees in the unit experienced damage to blooms due to a late freeze causing low production. You produced, harvested, and sold 300 pounds per acre of pecans from 70 acres and received an actual price of $0.75 per pound. On the other 30 acres, the pecans suffered damage due to drought. You elected not to harvest the other 30 acres of pecans. The 30 acres were appraised at 100 pounds per acre and on the day of the appraisal the average AMS price was $0.65. The total dollar value of production to count is (300 pounds of pecans × 70 net acres × $0.75) + (100 pounds × 30 net acres × $0.65) = $15,750 + $1,950 = $17,700.

The indemnity would be:

The amount of insurance per acre multiplied by the net acres minus the dollar value of the total production to count equals the dollar amount of indemnity ($435 × 100 = $43,500.00 −$17,700.00 = $25,800).

* * * * *

24. Amend § 457.175 as follows:

a. Revise the introductory text and the undesignated text at the beginning of the “California Avocado Crop Provisions”;

b. In section 1, in the definition of “Crop year”, remove the words “The period of time” and add “In lieu of the definition contained in section 1 of the Basic Provisions, the period of time” in their place;

c. Revise section 2;

d. In section 3, revise paragraph (c);

e. In section 6, in paragraph (b), remove the words “the provisions of”;

f. In section 8:

i. In paragraphs (a) introductory text and (b) introductory text, remove the words “the provisions of”; and

ii. Revise paragraphs (b)(2) introductory text and (b)(2)(iii); and

g. In section 11, in paragraph (c)(1)(iv)(A), remove the word “Section” and add “section” in its place.

The revisions read as follows:

§ 457.175 California avocado crop insurance provisions.

The California Avocado Crop Provisions for the 2026 and succeeding crop years are as follows:

United States Department of Agriculture

Federal Crop Insurance Corporation

California Avocado Crop Provisions

In return for your payment of premium and administrative fee for the coverage, these California Avocado Crop Provisions will be attached to and made part of the Common Crop Insurance Policy, Basic Provisions (Basic Provisions) subject to the terms and conditions in your policy.

* * * * *

2. Unit Division

(a) Optional units may be established by:

(1) Organic and non-organic farming practices as provided in section 34(c)(3) of the Basic Provisions;

(2) Non-contiguous land; or

(3) Type.

(b) Optional units by land location as provided in section 34(c)(1) of the Basic Provisions and by irrigation practice as provided in section 34(c)(2) of the Basic Provisions are not applicable.

3. Insurance Guarantees, Coverage Levels, and Prices

* * * * *

(c) We will reduce the approved yield, as necessary, based on your estimate of the effect of any circumstance listed in section 3(b) that may reduce your yields from previous levels. If you fail to notify us of any circumstance that may reduce your yields from previous levels, we will reduce your approved yield at any time we become aware of the circumstance. If the circumstance occurred:

(1) Before the beginning of the insurance period and you notify us by the production reporting date, the approved yield will be reduced for the current crop year regardless of whether the circumstance was due to an insured or uninsured cause of loss;

(2) After the beginning of the insurance period and you notify us by the production reporting date, the approved yield will be reduced for the current crop year only if the potential reduction in the approved yield is due to an uninsured cause of loss; or

(3) Before or after the beginning of the insurance period and you fail to notify us by the production reporting date, an amount equal to the reduction in the approved yield will be added to the production to count calculated in section 11(c)(1)(ii) due to uninsured causes. We will reduce your approved yield for the subsequent crop year to reflect any reduction in the productive capacity of the trees or in the yield potential of the insured acreage.

* * * * *

8. Insurance Period

* * * * *

(b) * * *

(2) If you relinquish your insurable interest on any acreage of avocados on or before the acreage reporting date of any crop year, insurance will not be considered to have attached to and no premium will be due, and no indemnity paid, for such acreage for that crop year unless:

* * * * *

(iii) The transferee is eligible for crop insurance.

* * * * *

Marcia Bunger,
Manager, Federal Crop Insurance Corporation.

[FR Doc. 2024-13198 Filed 6-26-24; 8:45 am]

BILLING CODE 3410-08-P